DEPARTMENT OF STATE

DEPARTMENT OF COMMERCE

National Oceanic and Atmospheric Administration

RIN 0648-XE04

New and Revised Conservation and Management Measures and Resolutions for Antarctic Marine Living Resources Under the Auspices of CCAMLR

AGENCIES: Office of Ocean Affairs, Department of State and National Marine Fisheries Service (NMFS), National Oceanic and Atmospheric Administration (NOAA), Commerce.

ACTION: Notice.

SUMMARY: At its Twenty-Sixth Meeting in Hobart, Tasmania, from October 22 to November 2, 2007, the Commission for the Conservation of Antarctic Marine Living Resources (CCAMLR), of which the United States is a member, adopted conservation and management measures and resolutions, pending countries' approval, pertaining to fishing in the CCAMLR Convention Area. All the measures were agreed upon in accordance with Article IX of the Convention for the Conservation of Antarctic Marine Living Resources. Measures adopted restrict overall catches of certain species of finfish, squid, krill and crabs, restrict fishing in certain areas, restrict use of certain fishing gear, specify implementation and inspection obligations supporting the Catch Documentation Scheme of Contracting Parties, and promote compliance with CCAMLR measures by non-Contracting Party vessels. This notice includes the full text of the new and revised conservation measures adopted at the Twenty-Sixth meeting of CCAMLR. This notice also includes a listing of conservation measures that carry over from last year without change. The full text of these measures was published in the Federal Register on January 29, 2007. NMFS suggests that the public view these measures along with the measures contained in this Federal notice for a complete listing of all the measures adopted by CCAMLR at its recent meeting. The full text of all the measures adopted by CCAMLR can also be found on CCAMLR's Web site— http://www.ccamlr.org. This notice, therefore, together with the U.S. regulations referenced under the SUPPLEMENTARY INFORMATION, provides a comprehensive register of all current U.S. obligations under CCAMLR.

DATES: Persons wishing to comment on the measures or desiring more information should submit written comments by January 22, 2008.

FOR FURTHER INFORMATION CONTACT: Robert Gorrell, Office of Sustainable Fisheries, Room 13463, 1315 East-West Highway, SSMC3, NMFS, Silver Spring, MD 20910; tel: 301-713-2341; fax 301-713-1193; e-mail Robert.Gorrell@noaa.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Convention area, which NMFS uses to implement CCAMLR Conservation Measures that are not expected to change from year to year. The regulations in Subpart G include sections on: Purpose and scope; Definitions; Relationship to other treaties, conventions, laws, and regulations; Procedure for according protection to CCAMLR Ecosystem Monitoring Program Sites; Scientific Research; Initiating a new fishery;

Exploratory fisheries; Reporting and recordkeeping requirements; Vessel and gear identification; Gear disposal; Mesh size; Harvesting permits; Scientific observers; Dealer permits and preapproval; Appointment of a designated representative; Requirements for a vessel monitoring system; Prohibitions; Facilitation of enforcement and inspection; and Penalties.

Review of existing conservation measures and resolutions (the date in parenthesis indicates the last year in which the measure was amended by CCAMLR): The Commission noted that the following conservation measures will lapse on 30 November 2007: 32-09 (2006), 33-02 (2006), 33-03 (2006), 41-01 (2006), 41-02 (2006), 41-04 (2006), 41-05 (2006), 41-06 (2006), 41-07 (2006), 41-08 (2006), 41-09 (2006), 41-10 (2006), 41-11 (2006), 42-02 (2006), 52-01 (2006), 52-02 (2006) and 61-01 (2006). Conservation Measure 42-01 (2006) will lapse on 14 November 2007. All of these conservation measures dealt with general fishery matters for the 2006/07 season and are replaced by new measures mentioned below.

The Commission agreed that Conservation Measure 91-03 (2004) be rescinded to delete the Seal Islands as CCAMLR Ecosystem Monitoring Program Protected Sites.

The following unchanged conservation measures and resolutions will remain in force in 2007/08:

Compliance: 10-01 (1998), 10-03 (2005), 10-05 (2006), 10-06 (2006), 10-07 (2006) and 10-08 (2006).

General fishery matters: 21-01 (2006), 21-02 (2006), 22-01 (1986), 22-02 (1984), 22-03 (1990), 22-04 (2006), 22-05 (2006), 23-01 (2005), 23-02 (1993), 23-03 (1991), 23-04 (2000), 23-05 (2000), 24-01 (2005), 24-02 (2005), 25-03 (2003), and 26-01 (2006).

Fishery regulations: 31-01 (1986), 32-01 (2001), 32-02 (1998), 32-03 (1998), 32-04 (1986), 32-05 (1986), 32-06 (1985), 32-07 (1999), 32-08 (1997), 32-10 (2002), 32-11 (2002), 32-12 (1998), 32-13 (2003), 32-14 (2003), 32-15 (2003), 32-16 (2003), 32-17 (2003), 32-18 (2006), 33-01 (1995), 41-03 (2006), and 51-02 (2006).

Protected areas: 91-01 (2004) and 91-02 (2004).

Resolutions: 7/IX, 10/XII, 14/XIX, 15/XXII, 16/XIX, 17/XX, 18/XXI, 19/XXI, 20/XXV, 21/XXIII, 22/XXV, 23/XXIII, and 25/XXV.

The full text of these unchanged conservation measures and resolutions were published in the January 29, 2007 Federal Register (72 FR 4068).

The Commission revised the following conservation measures:

Compliance: 10-02 (2006) and 10-04 (2006) were revised as—

CM 10-02 (2007) 1 2 3

Licensing and inspection obligations of Contracting Parties with regard to their flag vessels operating in the Convention Area

CM 10-04 (2007)

Automated satellite-linked Vessel Monitoring Systems (VMS)

General fisheries matters: 21-03 (2006), 23-06 (2005) and 25-02 (2005) were revised as—

CM 21-03 (2007)

Notifications of intent to participate in a fishery for Euphausia superba

CM 23-06 (2007)

Data Reporting System for Euphausia superba Fisheries

CM 25-02 (2007) 1 2 3

Minimisation of the incidental mortality of seabirds in the course of longline fishing or longline fishing research in the Convention Area

Fishery regulations: 51-01 (2006) and 51-03 (2006) were revised as—

Krill: CM 51-01 (2007)

Precautionary catch limitations on Euphausia superba in Statistical Subareas 48.1, 48.2, 48.3 and 48.4

Krill: CM 51-03 (2007)

Precautionary catch limitation on Euphausia superba in Statistical Division 58.4.2

In addition, the Commission adopted 20 new measures and one new resolution:

General fisheries matters:

Gear Regulations: CM 22-06 (2007) 1 2 3

Bottom fishing in the Convention Area

Fishery regulations:

General Measures: CM 31-02 (2007) 1 2 3

General measure for the closure of all fisheries

Fishing Seasons, Closed Areas and Prohibition of Fishing: CM 32-09 (2007)

Prohibition of directed fishing for Dissostichus spp. except in accordance with specific conservation measures in the 2007/08 season

By-catch Limits: CM 33-02 (2007)

Limitation of by-catch in Statistical Division 58.5.2 in the 2007/08 season

By-catch Limits: CM 33-03 (2007) 1 2 3

Limitation of by-catch in new and exploratory fisheries in the 2007/08 season

Finfish Fisheries—Toothfish: CM 41-01 (2007) 1 2 3

General measures for exploratory fisheries for Dissostichus spp. in the Convention Area in the 2007/08 season

Finfish Fisheries—Toothfish: CM 41-02 (2007)

Limits on the fishery for Dissostichus eleginoides in Statistical Subarea 48.3 in the 2007/08 and 2008/09 seasons

Finfish Fisheries—Toothfish: CM 41-04 (2007)

Limits on the exploratory fishery for Dissostichus spp. in Statistical Subarea 48.6 in the 2007/08 season

Finfish Fisheries—Toothfish: CM 41-05 (2007)

Limits on the exploratory fishery for Dissostichus spp. in Statistical Division 58.4.2 in the 2007/08 season

Finfish Fisheries—Toothfish: CM 41-06 (2007)

Limits on the exploratory fishery for Dissostichus spp. on Elan Bank (Statistical Division 58.4.3a) outside areas of national jurisdiction in the 2007/08 season

Finfish Fisheries—Toothfish: CM 41-07 (2007)

Limits on the exploratory fishery for Dissostichus spp. on BANZARE Bank (Statistical Division 58.4.3b) outside areas of national jurisdiction in the 2007/08 season

Finfish Fisheries—Toothfish: CM 41-08 (2007)

Limits on the fishery for Dissostichus eleginoides in Statistical Division 58.5.2 in the 2007/08 and 2008/09 seasons

Finfish Fisheries—Toothfish: CM 41-09 (2007)

Limits on the exploratory fishery for Dissostichus spp. in Statistical Subarea 88.1 in the 2007/08 season

Finfish Fisheries—Toothfish: CM 41-10 (2007)

Limits on the exploratory fishery for Dissostichus spp. in Statistical Subarea 88.2 in the 2007/08 season

Finfish Fisheries—Toothfish: CM 41-11 (2007)

Limits on the exploratory fishery for Dissostichus spp. in Statistical Division 58.4.1 in the 2007/08 season

Finfish Fisheries—Icefish: CM 42-01 (2007)

Limits on the fishery for Champsocephalus gunnari in Statistical Subarea 48.3 in the 2007/08 season

Finfish Fisheries—Icefish: CM 42-02 (2007)

Limits on the fishery for Champsocephalus gunnari in Statistical Division 58.5.2 in the 2007/08 season

Crustacean Fisheries—Crab: CM 52-01 (2007)

Limits on the fishery for crab in Statistical Subarea 48.3 in the 2007/08 season

Crustacean Fisheries—Crab: CM 52-02 (2007)

Experimental harvest regime for the crab fishery in Statistical Subarea 48.3 in the 2007/08 season

Mollusc Fisheries—Squid: CM 61-01 (2007)

Limits on the exploratory fishery for Martialia hyadesi in Statistical Subarea 48.3 in the 2007/08 season

¹ Except for waters adjacent to the Kerguelen Islands

² Except for waters adjacent to the Crozet Islands

³ Except for waters adjacent to the Prince Edward Islands.

Resolutions:

Resolution 26/XXVI (International Polar Year/Census of Antarctic Marine Life)

For further information, see the CCAMLR Web site at http://www.ccamlr.org under Publications for the Schedule of Conservation Measures in Force (2007/2008), or contact the Commission at the CCAMLR Secretariat, P.O. Box 213, North Hobart, Tasmania 7002, Australia. Tel: (61) 3-6210-1111).

Conservation Measures and Resolutions Adopted at CCAMLR-XXVI

Conservation Measure 10-02 (2007) 1 2

Licensing and inspection obligations of Contracting Parties with regard to their flag vessels operating in the Convention Area

(Species: all; Area: all; Season: all; Gear: all)

1. Each Contracting Party shall prohibit fishing by its flag vessels in the Convention Area except pursuant to a licence ³ that the Contracting Party has issued setting forth the specific areas, species and time periods for which such fishing is authorised and all other specific conditions to which the fishing is subject to give effect to CCAMLR conservation measures and requirements under the Convention.

2. A Contracting Party may only issue such a licence to fish in the Convention Area to vessels flying its flag, if it is satisfied of its ability to exercise its responsibilities under the Convention and its conservation measures, by requiring from each vessel, inter alia, the following:

(i) Timely notification by the vessel to its Flag State of exit from and entry into any port;

(ii) Notification by the vessel to its Flag State of entry into the Convention Area and movement between areas, subareas/divisions;

(iii) Reporting by the vessel of catch data in accordance with CCAMLR requirements;

(iv) Reporting, where possible as set out in Annex 10-02/A by the vessel of sightings of fishing vessels ⁴ in the Convention Area;

(v) Operation of a VMS system on board the vessel in accordance with Conservation Measure 10-04;

(vi) Noting the International Management Code for the Safe Operation of Ships and for Pollution Prevention (International Safety Management Code), from 1 December 2009:

(a) Adequate communication equipment (including MF/HF radio and carriage of at least one 406MHz EPIRB) and trained operators on board. Wherever possible, vessels should be fitted with Global Maritime Distress and Safety System (GMDSS) equipment;

(b) Sufficient immersion survival suits for all on board;

(c) Adequate arrangements to handle medical emergencies that may arise in the course of the voyage;

(d) Reserves of food, fresh water, fuel and spare parts for critical equipment to provide for unforseen delays and besetment;

(e) An approved ⁵ Shipboard Oil Pollution Emergency Plan (SOPEP) outlining marine pollution mitigation arrangements (including insurance) in the event of a fuel or waste spill.

3. Each Contracting Party shall provide to the Secretariat within seven days of the issuance of each licence the following information about licences issued:

• Name of the vessel

• Time periods authorised for fishing (start and end dates)

• Area(s), subareas or divisions of fishing

• Species targeted

• Gear used

4. Each Contracting Party shall provide to the Secretariat within seven days of the issuance of each licence the following information about licences issued:

(i) Name of fishing vessel (any previous names if known) ⁶, registration number ⁷, IMO number (if issued), external markings and port of registry;

(ii) The nature of the authorisation to fish granted by the Flag State, specifying time periods authorised for fishing (start and end dates), area(s) of fishing, species targeted and gear used;

(iii) Previous flag (if any);⁶

(iv) International Radio Call Sign;

(v) Name and address of vessel's owner(s), and any beneficial owner(s) if known;

(vi) Name and address of licence owner (if different from vessel owner(s));

(vii) Type of vessel;

(viii) Where and when built;

(ix) Length (m);

(x) Colour photographs of the vessel which shall consist of:

• One photograph not smaller than 12 x 7 cm showing the starboard side of the vessel displaying its full overall length and complete structural features;

• One photograph not smaller than 12 x 7 cm showing the port side of the vessel displaying its full overall length and complete structural features;

• One photograph not smaller than 12 x 7 cm showing the stern taken directly from astern;

(xi) Where applicable, in accordance with Conservation Measure 10-04, details of the implementation of the tamper-proof requirements of the satellite monitoring device installed on board.

5. Each Contracting Party shall, to the extent practicable, also provide to the Secretariat at the same time as submitting information in accordance with paragraph 4, the following additional information in respect to each fishing vessel licensed:

(i) Name and address of operator, if different from vessel owners;

(ii) Names and nationality of master and, where relevant, of fishing master;

(iii) Type of fishing method or methods;

(iv) Beam (m);

(v) Gross registered tonnage;

(vi) Vessel communication types and numbers (INMARSAT A, B and C numbers);

(vii) Normal crew complement;

(viii) Power of main engine or engines (kW);

(ix) Carrying capacity (tonnes), number of fish holds and their capacity (m ³);

(x) Any other information in respect of each licensed vessel they consider appropriate (e.g. ice classification) for the purposes of the implementation of the conservation measures adopted by the Commission.

6. Contracting Parties shall communicate without delay to the Secretariat any change to any of the information submitted in accordance with paragraphs 3, 4 and 5.

7. The Executive Secretary shall place a list of licensed vessels on the public section of the CCAMLR Web site.

8. The licence or an authorised copy of the licence must be carried by the fishing vessel and must be available for inspection at any time by a designated CCAMLR inspector in the Convention Area.

9. Each Contracting Party shall verify, through inspections of all of its fishing vessels at the Party's departure and arrival ports, and where appropriate, in its Exclusive Economic Zone, their compliance with the conditions of the licence as described in paragraph 1 and with the CCAMLR conservation measures. In the event that there is evidence that the vessel has not fished in accordance with the conditions of its licence, the Contracting Party shall investigate the infringement and, if necessary, apply appropriate sanctions in accordance with its national legislation.

10. Each Contracting Party shall include in its annual report pursuant to paragraph 12 of the CCAMLR System of Inspection, steps it has taken to implement and apply this conservation measure; and may include additional measures it may have taken in relation to its flag vessels to promote the effectiveness of CCAMLR conservation measures.

¹ Except for waters adjacent to the Kerguelen and Crozet Islands.

² Except for waters adjacent to the Prince Edward Islands.

³ Includes permit and authorisation.

⁴ Including support vessels such as reefer vessels.

⁵ Shipboard Oil Pollution Emergency Plan to be approved by the Maritime Safety Authority of the Flag State.

⁶ In respect of any vessel reflagged within the previous 12 months, any information on the details of the process of (reasons for) previous deregistration of the vessel from other registries, if known.

⁷ National registry number.

Annex 10-02/A

Reporting of Vessel Sightings

1. In the event that the master of a licensed fishing vessel sights a fishing vessel ⁴ within the Convention Area, the master shall document as much information as possible on each such sighting, including:

(a) Name and description of the vessel;

(b) Vessel call sign;

(c) Registration number and the Lloyds/IMO number of the vessel;

(d) Flag State of the vessel;

(e) Photographs of the vessel to support the report;

(f) Any other relevant information regarding the observed activities of the sighted vessel.

2. The master shall forward a report containing the information referred to in paragraph 1 to their Flag State as soon as possible. The Flag State shall submit to the Secretariat any such reports that meet the criteria of paragraph 3 of Conservation Measure 10-06 or paragraph 8 of Conservation Measure 10-07.

Conservation Measure 10-04 (2007)

Automated Satellite-Linked Vessel Monitoring Systems (VMS)

(Species: all; Area: all; Season: all; Gear: all)

The Commission,

Recognising that in order to promote the objectives of the Convention and further improve compliance with the relevant conservation measures,

Convinced that illegal, unreported and unregulated (IUU) fishing compromises the objective of the Convention,

Recalling that Contracting Parties are required to cooperate in taking appropriate action to deter any fishing activities which are not consistent with the objective of the Convention,

Mindful of the rights and obligations of Flag States and Port States to promote the effectiveness of conservation measures,

Wanting to reinforce the conservation measures already adopted by the Commission,

Recognising the obligations and responsibilities of Contracting Parties under the Catch Documentation Scheme for Dissostichus spp. (CDS),

Recalling provisions as made under Article XXIV of the Convention,

Committed to take steps, consistent with international law, to identify the origins of Dissostichus spp. entering the markets of Contracting Parties and to determine whether Dissostichus spp. harvested in the Convention Area that is imported into their territories was caught in a manner consistent with CCAMLR conservation measures,

hereby adopts the following conservation measure in accordance with Article IX of the Convention:

1. Each Contracting Party shall ensure that its fishing vessels, licensed ¹ in accordance with Conservation Measure 10-02, are equipped with a satellite-linked vessel monitoring device allowing for the continuous reporting of their position in the Convention Area for the duration of the licence issued by the Flag State. The vessel monitoring device shall automatically communicate at least every four hours to a land-based fisheries monitoring centre (FMC) of the Flag State of the vessel the following data:

(i) Fishing vessel identification;

(ii) The current geographical position (latitude and longitude) of the vessel, with a position error which shall be less than 500 m, with a confidence interval of 99%; and

(iii) The date and time (expressed in UTC) of the fixing of the said position of the vessel.

2. Each Contracting Party as a Flag State shall ensure that the vessel monitoring device(s) on board its vessels are tamper proof, i.e. are of a type and configuration that prevent the input or output of false positions, and that are not capable of being over-ridden, whether manually, electronically or otherwise. To this end, the on-board satellite monitoring device must:

(i) Be located within a sealed unit; and

(ii) Be protected by official seals (or mechanisms) of a type that indicate whether the unit has been accessed or tampered with.

3. In the event that a Contracting Party has information to suspect that an on-board vessel monitoring device does not meet the requirements of paragraph 2, or has been tampered with, it shall immediately notify the Secretariat and the vessel's Flag State.

4. Each Contracting Party shall ensure that its FMC receives Vessel Monitoring System (VMS) reports and messages, and that the FMC is equipped with computer hardware and software enabling automatic data processing and electronic data transmission. Each Contracting Party shall provide for backup and recovery procedures in case of system failures.

5. Masters and owners/licensees of fishing vessels subject to VMS shall ensure that the vessel monitoring device on board their vessels within the Convention Area is at all times fully operational as per paragraph 1, and that the data are transmitted to the Flag State. Masters and owners/licensees shall in particular ensure that:

(i) VMS reports and messages are not altered in any way;

(ii) The antennae connected to the satellite monitoring device are not obstructed in any way;

(iii) The power supply of the satellite monitoring device is not interrupted in any way; and

(iv) The vessel monitoring device is not removed from the vessel.

6. A vessel monitoring device shall be active within the Convention Area. It may, however, be switched off when the fishing vessel is in port for a period of more than one week, subject to prior notification to the Flag State, and if the Flag State so desires also to the Secretariat, and providing that the first position report generated following the repowering (activating) shows that the fishing vessel has not changed position compared to the last report.

7. In the event of a technical failure or non-functioning of the vessel monitoring device on board the fishing vessel, the master or the owner of the vessel, or their representative, shall communicate to the Flag State every six hours, and if the Flag State so desires also to the Secretariat, starting at the time that the failure or the non-functioning was detected or notified in accordance with paragraph 11, the up-to-date geographical position of the vessel by electronic means (e-mail, facsimile, telex, telephone message, radio).

8. Vessels with a defective vessel monitoring device shall take immediate steps to have the device repaired or replaced as soon as possible and, in any event, within two months. If the vessel during that time returns to port, it shall not be allowed by the Flag State to commence a further fishing trip in the Convention Area without having the defective device repaired or replaced.

9. When the Flag State has not received for 12 hours data transmissions referred to in paragraphs 1 and 7, or has reasons to doubt the correctness of the data transmissions under paragraphs 1 and 7, it shall as soon as possible notify the master or the owner or the representative thereof. If this situation occurs more than two times within a period of one year in respect of a particular vessel, the Flag State of the vessel shall investigate the matter, including having an authorised official check the device in question, in order to establish whether the equipment has been tampered with. The outcome of this investigation shall be forwarded to the CCAMLR Secretariat within 30 days of its completion.

10.²,³,⁴ Each Contracting Party shall forward VMS reports and messages received, pursuant to paragraph 1, to the CCAMLR Secretariat as soon as possible:

(i) But not later than four hours after receipt for those exploratory longline fisheries subject to conservation measures adopted at CCAMLR-XXIII; or

(ii) But not later than 10 working days following departure from the Convention Area for all other fisheries.

11. With regard to paragraphs 7 and 10(i), each Contracting Party shall, as soon as possible but no later than two working days following detection or notification of technical failure or non-functioning of the vessel monitoring device on board the fishing vessel, forward the geographical positions of the vessel to the Secretariat, or shall ensure that these positions are forwarded to the Secretariat by the master or the owner of the vessel, or their representative.

12. Each Flag State shall ensure that VMS reports and messages transmitted by the Contracting Party or its fishing vessels to the CCAMLR Secretariat, are in a computer-readable form in the data exchange format set out in Annex 10-04/A.

13. Each Flag State shall in addition separately notify by e-mail or other means the CCAMLR Secretariat within 24 hours of each entry to, exit from and movement between subareas and divisions of the Convention Area by each of its fishing vessels in the format outlined in Annex 10-04/A. When a vessel intends to enter a closed area, or an area for which it is not licensed to fish, the Flag State shall provide prior notification to the Secretariat of the vessel's intentions. The Flag State may permit or direct that such notifications be provided by the vessel directly to the Secretariat.

14. Without prejudice to its responsibilities as a Flag State, if the Contracting Party so desires, it shall ensure that each of its vessels communicates the reports referred to in paragraphs 10 and 13 in parallel to the CCAMLR Secretariat.

15. Each Flag State shall notify to the CCAMLR Secretariat any changes without delay to the name, address, e-mail, telephone and facsimile numbers, as well as the address of electronic communication of the relevant authorities of their FMC.

16. In the event that the CCAMLR Secretariat has not, for 48 consecutive hours, received the data transmissions referred to in paragraph 10(i), it shall promptly notify the Flag State of the vessel and require an explanation. The CCAMLR Secretariat shall promptly inform the Commission if the data transmissions at issue, or the Flag State explanation, are not received from the Contracting Party within a further five working days.

17. If VMS data received by the Secretariat indicate the presence of a vessel in an area or subarea for which no license details have been provided by the Flag State to the Secretariat as required by Conservation Measure 10-02, or in any area or subarea for which the Flag State or fishing vessel has not provided prior notification as required by paragraph 13, then the Secretariat shall notify the Flag State and require an explanation. The explanation shall be forwarded to the Secretariat for evaluation by the Commission at its next annual meeting.

18. The CCAMLR Secretariat and all Parties receiving data shall treat all VMS reports and messages received under paragraph 10 or paragraphs 19, 20, 21 or 22 in a confidential manner in accordance with the confidentiality rules established by the Commission as contained in Annex 10-04/B. Data from individual vessels shall be used for compliance purposes only, namely for:

(i) Active surveillance presence, and/or inspections by a Contracting Party in a specified CCAMLR subarea or division; or

(ii) The purposes of verifying the content of a Dissostichus Catch Document (DCD).

19. The CCAMLR Secretariat shall place a list of vessels submitting VMS reports and messages pursuant to this conservation measure on a password-protected section of the CCAMLR Web site. This list shall be divided into subareas and divisions, without indicating the exact positions of vessels, and be updated when a vessel changes subarea or division. The list shall be posted daily by the Secretariat, establishing an electronic archive.

20. VMS reports and messages (including vessel locations), for the purposes of paragraph 18(i) above, may be provided by the Secretariat to a Contracting Party other than the Flag State without the permission of the Flag State only during active surveillance, and/or inspection in accordance with the CCAMLR System of Inspection and subject to the time frames set out in paragraph 10. In this case, the Secretariat shall provide VMS reports and messages, including vessel locations over the previous 10 days, for vessels actually detected during surveillance, and/or inspection by a Contracting Party, and VMS reports and messages (including vessel locations) for all vessels within 100 n miles of that same location. The Flag State(s) concerned shall be provided by the Party conducting the active surveillance, and/or inspection, with a report including name of the vessel or aircraft on active surveillance, and/or inspection under the CCAMLR System of Inspection, and the full name(s) of the CCAMLR inspector(s) and their ID number(s). The Parties conducting the active surveillance, and/or inspection will make every reasonable effort to make this information available to the Flag State(s) as soon as possible.

21. A Party may contact the Secretariat prior to conducting active surveillance, and/or inspection in accordance with the CCAMLR System of Inspection, in a given area and request VMS reports and messages (including vessel locations), for vessels in that area. The Secretariat shall provide this information only with the permission of the Flag State for each of the vessels and according to the time frames set out in paragraph 10. On receipt of Flag State permission the Secretariat shall provide regular updates of positions to the Contracting Party for the duration of the active surveillance, and/or inspection in accordance with the CCAMLR System of Inspection.

22. A Contracting Party may request actual VMS reports and messages (including vessel locations) from the Secretariat for a vessel when verifying the claims on a DCD. In this case the Secretariat shall provide that data only with Flag State permission.

23. Notwithstanding the requirements of paragraphs 1 and 4, Contracting Parties may request VMS data for their own Flag vessels from the Secretariat.

24. The CCAMLR Secretariat shall annually, before 30 September, report on the implementation of and compliance with this conservation measure to the Commission.

¹ Includes vessels licensed under French domestic law and vessels licensed under South African domestic law.

² This paragraph does not apply to vessels licensed under French domestic law in the EEZs surrounding Kerguelen and Crozet Islands.

³ This paragraph does not apply to vessels licensed under South African domestic law in the EEZ surrounding Prince Edward Islands.

⁴ This paragraph and paragraphs thereafter do not apply to the krill fisheries, with the exception of paragraphs 15 and 24.

Annex 10-04/A

VMS Data Format ‘Position’, ‘Exit’, and ‘Entry’ Reports/Messages

Data element | Field code | Mandatory/ optional | Remarks
Start record | SR | M | System detail; indicates start of record.
Address | AD | M | Message detail; destination; ‘XCA’ for CCAMLR.
Sequence number | SQ | M ¹ | Message detail; message serial number in current year.
Type of message | TM ² | M | Message detail; message type, ‘POS’ as position report/message to be communicated by VMS or other means by vessels with a defective satellite tracking device.
Radio call sign | RC | M | Vessel registration detail; international radio call sign of the vessel.
Trip number | TN | O | Activity detail; fishing trip serial number in current year.
Vessel name | NA | M | Vessel registration detail; name of the vessel.
Contracting Party internal reference number | IR | O | Vessel registration detail. Unique Contracting Party vessel number as ISO-3 Flag State code followed by number.
External registration number | XR | O | Vessel registration detail; the side number of the vessel.
Latitude | LA | M ³ | Activity detail; position.
Longitude | LO | M ³ | Activity detail; position.
Latitude (decimal) | LT | M ⁴ | Activity detail; position.
Longitude (decimal) | LG | M ⁴ | Activity detail; position.
Date | DA | M | Message detail; position date.
Time | TI | M | Message detail; position time in UTC.
End of record | ER | M | System detail; indicates end of the record.
¹ Optional in case of a VMS message.
² Type of message shall be ‘ENT' for the first VMS message from the Convention Area as detected by the FMC of the Contracting Party, or as directly submitted by the vessel. Type of message shall be ‘EXI' for the first VMS message from outside the Convention Area as detected by the FMC of the Contracting Party or as directly submitted by the vessel, and the values for latitude and longitude are, in this type of message, optional. Type of message shall be ‘MAN' for reports communicated by vessels with a defective satellite tracking device.
³ Mandatory for manual messages.
⁴ Mandatory for VMS messages.

Format for Indirect Flag State Reporting Via E-mail

Code | Code definition | Field contents | Example | Field contents explanation
SR | Start record | No data |  | No data.
AD | Address | XCA | XCA | XCA = CCAMLR.
SQ | Sequence number | XXX | 123 | Message sequence number.
TM | Type of message | POS | POS | POS = position report, ENT = entry report, EXI = exit report.
RC | Radio call sign | XXXXXX | AB1234 | Maximum of 8 characters.
NA | Vessel name | XXXXXXXX | Vessel Name | Maximum of 30 characters.
LT | Latitude | DD.ddd | -55.000 | +/−numeral in GIS format. Must specify −for South and + for North.
LG | Longitude | DDD.ddd | -020.000 | +/−numeral in GIS format. Must specify −for West and + for East.
DA | Record date | YYYYMMDD | 20050114 | 8 characters only
TI | Record time | HHMM | 0120 | 4 characters only, using 24-hour time format. Do not use separators or include seconds.
ER | End record | No data |  | No data.
Sample string: //SR//AD/XCA//SQ/001//TM/POS//RC/ABCD//NA/Vessel Name//LT/−55.000//LG/−020.000//DA/20050114//TI/0120//ER//
Notes:
• Three fields in Annex 10-04/A are optional. These are:
TN (trip number)
IR (Contracting Party internal reference number): Must start with the 3-character ISO country code, e.g. Argentina = ARGxxx
XR (external registration number).
• Do not include any other fields.
• Do not include separators (e.g.: . or /) in the date and time fields.
• Do not include seconds in the time fields.

Annex 10-04/B

Provisions on Secure and Confidential Treatment of Electronic Reports and Messages Transmitted Pursuant to Conservation Measure 10-04

1. Field of Application

1.1 The provisions set out below shall apply to all VMS reports and messages transmitted and received pursuant to Conservation Measure 10-04.

2. General Provisions

2.1 The CCAMLR Secretariat and the appropriate authorities of Contracting Parties transmitting and receiving VMS reports and messages shall take all necessary measures to comply with the security and confidentiality provisions set out in sections 3 and 4.

2.2 The CCAMLR Secretariat shall inform all Contracting Parties of the measures taken in the Secretariat to comply with these security and confidentiality provisions.

2.3 The CCAMLR Secretariat shall take all the necessary steps to ensure that the requirements pertaining to the deletion of VMS reports and messages handled by the Secretariat are complied with.

2.4 Each Contracting Party shall guarantee the CCAMLR Secretariat the right to obtain as appropriate, the rectification of reports and messages or the erasure of VMS reports and messages, the processing of which does not comply with the provisions of Conservation Measure 10-04.

3. Provisions on Confidentiality

3.1 All requests for data must be made to the CCAMLR Secretariat in writing. Requests for data must be made by the main Commission Contact or an alternative contact nominated by the main Commission Contact of the Contracting Party concerned. The Secretariat shall only provide data to a secure e-mail address specified at the time of making a request for data.

3.2 In cases where the CCAMLR Secretariat is required to seek the permission of the Flag State before releasing VMS reports and messages to another Party, the Flag State shall respond to the Secretariat as soon as possible but in any case within two working days.

3.3 Where the Flag State chooses not to give permission for the release of VMS reports and messages, the Flag State shall, in each instance, provide a written report within 10 working days to the Commission outlining the reasons why it chooses not to permit data to be released. The CCAMLR Secretariat shall place any report so provided, or notice that no report was received, on a password-protected part of the CCAMLR Web site.

3.4 VMS reports and messages shall only be released and used for the purposes stipulated in paragraph 18 of Conservation Measure 10-04.

3.5 VMS reports and messages released pursuant to paragraphs 20, 21, and 22 of Conservation Measure 10-04 shall provide details of: Name of vessel, date and time of position report, and latitude and longitude position at time of report.

3.6 Regarding paragraph 21 each inspecting Contracting Party shall make available VMS reports and messages and positions derived therefrom only to their inspectors designated under the CCAMLR System of Inspection. VMS reports and messages shall be transmitted to their inspectors no more than 48 hours prior to entry into the CCAMLR, subarea or division where surveillance is to be conducted by the Contracting Party. Contracting Parties must ensure that VMS reports and messages are kept confidential by such inspectors.

3.7 The CCAMLR Secretariat shall delete all the original VMS reports and messages referred to in section 1 from the database at the CCAMLR Secretariat by the end of the first calendar month following the third year in which the VMS reports and messages have originated. Thereafter the information related to the movement of the fishing vessels shall only be retained by the CCAMLR Secretariat after measures have been taken to ensure that the identity of the individual vessels can no longer be established.

3.8 Contracting Parties may retain and store VMS reports and messages provided by the Secretariat for the purposes of active surveillance presence, and/or inspections, until 24 hours after the vessels to which the reports and messages pertain have departed from the CCAMLR subarea or division. Departure is deemed to have been effected six hours after the transmission of the intention to exit from the CCAMLR subarea or division.

4. Provisions on Security

4.1 Overview

4.1.1 Contracting Parties and the CCAMLR Secretariat shall ensure the secure treatment of VMS reports and messages in their respective electronic data processing facilities, in particular where the processing involves transmission over a network. Contracting Parties and the CCAMLR Secretariat must implement appropriate technical and organisational measures to protect reports and messages against accidental or unlawful destruction or accidental loss, alteration, unauthorised disclosure or access, and against all inappropriate forms of processing.

4.1.2 The following security issues must be addressed from the outset:

• System access control:

The system has to withstand a break-in attempt from unauthorised persons.

• Authenticity and data access control:

The system has to be able to limit the access of authorised parties to a predefined set of data only.

• Communication security:

It shall be guaranteed that VMS reports and messages are securely communicated.

• Data security:

It has to be guaranteed that all VMS reports and messages that enter the system are securely stored for the required time and that they will not be tampered with.

• Security procedures:

Security procedures shall be designed addressing access to the system (both hardware and software), system administration and maintenance, backup and general usage of the system.

4.1.3 Having regard to the state of the art and the cost of their implementation, such measures shall ensure a level of security appropriate to the risks represented by the processing of the reports and the messages.

4.1.4 Security measures are described in more detail in the following paragraphs.

4.2 System Access Control

4.2.1 The following features are the mandatory requirements for the VMS installation located at the CCAMLR Data Centre:

• A stringent password and authentication system: Each user of the system is assigned a unique user identification and associated password. Each time the user logs on to the system he/she has to provide the correct password. Even when successfully logged on the user only has access to those and only those functions and data that he/she is configured to have access to. Only a privileged user has access to all the data.

• Physical access to the computer system is controlled.

• Auditing: Selective recording of events for analysis and detection of security breaches.

• Time-based access control: Access to the system can be specified in terms of times-of-day and days-of-week that each user is allowed to log on to the system.

• Terminal access control: Specifying for each workstation which users are allowed to access.

4.3 Authenticity and Data Access Security

4.3.1 Communication between Contracting Parties and the CCAMLR Secretariat for the purpose of Conservation Measure 10-04 shall use secure Internet protocols SSL, DES, or verified certificates obtained from the CCAMLR Secretariat.

4.4 Data Security

4.4.1 Access limitation to the data shall be secured via a flexible user identification and password mechanism. Each user shall be given access only to the data necessary for their task.

4.5 Security Procedures

4.5.1 Each Contracting Party and the CCAMLR Secretariat shall nominate a security system administrator. The security system administrator shall review the log files generated by the software for which they are responsible, properly maintain the system security for which they are responsible, restrict access to the system for which they are responsible as deemed needed and in the case of Contracting Parties, also act as a liaison with the Secretariat in order to solve security matters.

Conservation Measure 21-03 (2007)

Notifications of Intent To Participate in a Fishery for Euphausia superba

(Species: krill; Area: all; Season: all; Gear: all)

1. In order for the Scientific Committee to thoroughly study the notifications to fish for krill for the coming season, all Contracting Parties intending to fish for krill in the Convention Area shall notify the Secretariat of their intention not less than four (4) months in advance of the annual meeting of the Commission, immediately prior to the season in which they intend to fish, using the pro forma in Annex 21-03/A.

2. This notification shall include the information prescribed in paragraph 4 of Conservation Measure 10-02 in respect of each vessel proposing to participate in the fishery, with the exception that the notification shall not be required to specify the information referred to in subparagraph 4(ii) of Conservation Measure 10-02. Contracting Parties shall, to the extent practicable, also provide in their notification the additional information detailed in paragraph 5 of Conservation Measure 10-02 in respect to each fishing vessel notified. Contracting Parties are not hereby exempted from their obligations under Conservation Measure 10-02 to submit any necessary updates to vessel and licence details within the deadline established therein as of issuance of the licence to the vessel concerned.

3. A Contracting Party intending to fish for krill in the Convention Area may only notify in respect of vessels flying its flag at the time of the notification.

4. Contracting Parties shall ensure, including by submitting notifications by the due date, appropriate review by the Commission of notifications to fish for krill in the Convention Area before a vessel commences fishing.

5. Notwithstanding paragraph 4, Contracting Parties shall be entitled under Conservation Measure 10-02 to authorize participation in a krill fishery by a vessel other than that notified to the Commission in accordance with paragraph 2, if the notified vessel is prevented from participation due to legitimate operational reasons or force majeure. In such circumstances the Contracting Party concerned shall immediately inform the Secretariat providing:

(i) Full details of the intended replacement vessel(s) as prescribed in paragraph 2;

(ii) A comprehensive account of the reasons justifying the replacement and any relevant supporting evidence or references.

The Secretariat shall immediately circulate this information to all Contracting Parties.

6. A vessel on either of the IUU Vessel Lists established under Conservation Measures 10-06 and 10-07 shall not be permitted by Contracting Parties to participate in krill fisheries.

7. The Secretariat shall provide the Commission and its relevant subsidiary bodies with information regarding substantial discrepancies between notifications and actual catches in the krill fishery in the latest season.

BILLING CODE 3510-22-P

BILLING CODE 3510-22-C

Conservation Measure 22-06 (2007) ¹ ²

Bottom Fishing in the Convention Area

(Species: all; Area: see paragraph 1; Season: all; Gear: bottom fishing)

The Commission,

Recognising the commitment made by Members to implement the CCAMLR precautionary and ecosystem approaches to fisheries management by embracing principles of conservation as stated in Article II of the Convention,

Conscious of the urgent need to protect vulnerable marine ecosystems from bottom fishing activities that have significant adverse impacts on such ecosystems,

Noting that United Nations General Assembly Resolution 61/105, adopted on 8 December 2006, calls on regional fisheries management organisations or arrangements with the competence to regulate bottom fisheries to adopt and implement measures to prevent significant adverse impacts of bottom fisheries on vulnerable marine ecosystems and noting further that all CCAMLR Members joined in the consensus by which this resolution was adopted,

Noting also the importance of Article IX of the Convention, including the use of the best scientific evidence available,

Aware of the steps already taken by CCAMLR to address the impacts of deep-sea gillnetting and bottom trawling in the Convention Area, through the implementation of Conservation Measures 22-04 and 22-05 respectively,

Recognising that CCAMLR has responsibilities for the conservation of Antarctic marine living resources, part of which include the attributes of a regional fisheries management organisation,

Noting that all CCAMLR conservation measures are published on the CCAMLR website, hereby adopts the following conservation measure in accordance with Article IX of the Convention:

Management of Bottom Fishing

1. This conservation measure applies to areas in the Convention Area south of 60°S; and to the rest of the Convention Area with the exception of subareas and divisions where an established fishery was in place in 2006/07 with a catch limit greater than zero.

2. For the purposes of this measure, the term `vulnerable marine ecosystems' in the context of CCAMLR includes seamounts, hydrothermal vents, cold water corals and sponge fields.

3. For the purposes of this measure, the term `bottom fishing activities' includes the use of any gear that interacts with the bottom.

4. Until 30 November 2008, bottom fishing activities shall be limited to those areas for which bottom fishing activities were approved by the Commission in the 2006/07 fishing season.

5. Contracting Parties whose vessels wish to engage in any bottom fishing activities, beginning 1 December 2008, shall follow the procedures described in paragraphs 7 to 10 below.

6. Contracting Parties shall authorise vessels flying their flag to participate in bottom fishing activities only in accordance with the provisions of this conservation measure and Conservation Measure 10-02.

Assessment of Bottom Fishing

7. All individual bottom fishing activities commencing 1 December 2008 and thereafter shall be subject to assessment by the Scientific Committee, based on the best available scientific information, to determine if such activities, taking account of the history of bottom fishing in the areas proposed, would contribute to having significant adverse impacts on vulnerable marine ecosystems, and to ensure that if it is determined that these activities would make such contributions, that they are managed to prevent such impacts or are not authorised to proceed. The assessments shall include the following procedures:

(i) Each Contracting Party proposing to participate in bottom fishing shall submit to the Scientific Committee and Commission information and a preliminary assessment, where possible, of the known and anticipated impacts of its bottom fishing activities on vulnerable marine ecosystems, including benthos and benthic communities, no less than three months in advance of the next meeting of the Commission. These submissions shall also include the mitigation measures proposed by the Contracting Party to prevent such impacts.

(ii) The submission of such information shall be carried out in accordance with guidance developed by the Scientific Committee or, in the absence of such guidance, to the best of the Contracting Party's ability.

(iii) The Scientific Committee shall undertake an assessment, according to procedures and standards it develops, and provide advice to the Commission as to whether the proposed bottom fishing activity would contribute to having significant adverse impacts on vulnerable marine ecosystems and, if so, whether the proposed or additional mitigation measures would prevent such impacts. The Scientific Committee may use in its assessment additional information available to it, including information from other fisheries in the region or similar fisheries elsewhere.

(iv) The Commission shall, taking account of advice and recommendations provided by the Scientific Committee concerning bottom fishing activities, including data and information arising from reports pursuant to paragraph 8, adopt conservation measures to prevent significant adverse impacts on vulnerable marine ecosystems, that as appropriate:

(a) Allow, prohibit or restrict bottom fishing activities within particular areas;

(b) Require specific mitigation measures for bottom fishing activities;

(c) Allow, prohibit or restrict bottom fishing with certain gear types; and/or

(d) Contain any other relevant requirements or restrictions to prevent significant adverse impacts to vulnerable marine ecosystems.

Encounters With Vulnerable Marine Ecosystems

8. Contracting Parties, in the absence of site-specific or other conservation measures to prevent significant adverse impact on vulnerable marine ecosystems, shall require vessels flying their flag to cease bottom fishing activities in any location where evidence of a vulnerable marine ecosystem is encountered in the course of fishing operations, and to report the encounter to the Secretariat in accordance with the schedule of the Catch and Effort Reporting System (Conservation Measure 23-01, 23-02 or 23-03, whichever is applicable), so that appropriate conservation measures can be adopted in respect of the relevant site.

9. The Scientific Committee shall provide advice to the Commission on the known and anticipated impacts of bottom fishing activities on vulnerable marine ecosystems, and recommend practices, including ceasing fishing operations if needed, when evidence of a vulnerable marine ecosystem is encountered in the course of bottom fishing operations. Taking account of this advice, the Commission shall adopt initial conservation measures in 2008 to be applied when evidence of a vulnerable marine ecosystem is encountered in the course of fishing operations.

Monitoring and Control of Bottom Fishing Activities

10. Notwithstanding Members obligations pursuant to Conservation Measure 21-02, all Contracting Parties whose vessels participate in bottom fisheries shall:

(i) Ensure that their vessels are equipped and configured so that they can comply with all relevant conservation measures;

(ii) Ensure that each vessel carries at least one CCAMLR-designated scientific observer to collect data in accordance with this and other conservation measures;

(iii) Submit data pursuant to data collection plans for bottom fisheries to be developed by the Scientific Committee and included in conservation measures;

(iv) Be prohibited from continuing participation in the relevant bottom fishery if data arising from conservation measures relevant to that bottom fishery have not been submitted to CCAMLR pursuant to subparagraph 10(iii) for the most recent season in which fishing occurred, until the relevant data have been submitted to CCAMLR and the Scientific Committee has been allowed an opportunity to review the data.

11. The Secretariat shall annually compile a list of vessels authorised to fish pursuant to this conservation measure and shall make this list publicly available on CCAMLR's website.

Data Collection and Sharing and Scientific Research

12. The Scientific Committee shall, based on the best available scientific information, advise the Commission on where vulnerable marine ecosystems are known to occur or are likely to occur, and advise on potential mitigation measures. Contracting Parties shall provide the Scientific Committee with all relevant information to assist in this work. The Secretariat shall maintain an inventory including digital maps of all known vulnerable marine ecosystems in the Convention Area for circulation to all Contracting Parties and other relevant bodies.

13. Scientific bottom fishing research activities notified under Conservation Measure 24-01, paragraph 2, shall proceed according to Conservation Measure 24-01 and shall be undertaken with due regard to potential impacts on vulnerable marine ecosystems. Scientific bottom fishing research activities notified under Conservation Measure 24-01, paragraph 3, shall be treated in accordance with all aspects of paragraph 7 of this conservation measure, notwithstanding the procedures in Conservation Measure 24-01. Consistent with existing reporting requirements in Conservation Measure 24-01, paragraph 4, information regarding the location and the type of any vulnerable marine ecosystem encountered, in the course of scientific bottom fishing research activities, shall be reported to the Secretariat.

Review

14. This conservation measure will be reviewed at the next regular meeting of the Commission, based upon the findings of the Scientific Committee. In addition, beginning in 2009 and biennially thereafter, the Commission will examine the effectiveness of relevant conservation measures in protecting vulnerable marine ecosystems from significant adverse impacts, based upon advice from the Scientific Committee.

¹ Except for waters adjacent to the Kerguelen and Crozet Islands.

² Except for waters adjacent to the Prince Edward Islands.

Conservation Measure 23-06 (2007)

Data Reporting System for Euphausia superba Fisheries

(Species: krill; Area: all; Season: all; Gear: all)

1. This conservation measure is invoked by the conservation measures to which it is attached.

2. Catches shall be reported in accordance with the monthly Catch and Effort Reporting System set out in Conservation Measure 23-03 according to the statistical areas, subareas, divisions or any other area or unit specified with catch limits in Conservation Measure 51-02.

3. Provided that the total reported catch for the region for which a trigger level has been specified in Conservation Measures 51-01 and 51-03 in the fishing season is less than 80% of the applicable trigger level, catches shall be reported in accordance with the Monthly Catch and Effort Reporting System set out in Conservation Measure 23-03 according to the statistical areas, subareas, divisions or any other area or unit specified with catch limits in Conservation Measures 51-01 and 51-03.

4. When the total reported catch in any fishing season is greater than or equal to 80% of the trigger level set in Conservation Measures 51-01 and 51-03, catches shall be reported in accordance with the 10-day Catch and Effort Reporting System set out in Conservation Measure 23-02, according to the statistical areas, subareas, divisions or any other area or unit specified with catch limits in Conservation Measures 51-01 and 51-03.

5. In all seasons after the conditions of paragraph 4 have been met, paragraph 3 shall apply when the total catch is less than 50% of the trigger level and paragraph 4 shall apply when the total catch is greater than or equal to 50% of the trigger level.

6. At the end of each fishing season each Contracting Party shall obtain from each of its vessels the haul-by-haul data required to complete the CCAMLR fine-scale catch and effort data form (trawl fisheries Form C1). It shall transmit those data in the specified format to the Executive Secretary not later than 1 April of the following year.

7. This conservation measure shall be reviewed in 2010 or when catch limits for SSMUs are established in the relevant areas, whichever is sooner.

Conservation Measure 25-02 (2007) ¹ ²

Minimisation of the Incidental Mortality of Seabirds in the Course of Longline Fishing or Longline Fishing Research in the Convention Area.

(Species: seabirds; Area: all; Season: all; Gear: longline)

The Commission,

Noting the need to reduce the incidental mortality of seabirds during longline fishing by minimising their attraction to fishing vessels and by preventing them from attempting to seize baited hooks, particularly during the period when the lines are set,

Recognising that in certain subareas and divisions of the Convention Area there is also a high risk that seabirds will be caught during line hauling,

Adopts the following measures to reduce the possibility of incidental mortality of seabirds during longline fishing.

1. Fishing operations shall be conducted in such a way that hooklines ³ sink beyond the reach of seabirds as soon as possible after they are put in the water.

2. Vessels using autoline systems should add weights to the hookline or use integrated weight (IW) hooklines while deploying longlines. IW longlines of a minimum of 50 g/m or attachment to non-IW longlines of 5 kg weights at 50 to 60 m intervals are recommended.

3. Vessels using the Spanish method of longline fishing should release weights before line tension occurs; traditional weights ⁴ of at least 8.5 kg mass shall be used, spaced at intervals of no more than 40 m, or traditional weights ⁴ of at least 6 kg mass shall be used, spaced at intervals of no more than 20 m, or solid steel weights ⁵ of at least 5 kg mass shall be used, spaced at intervals of no more than 40 m.

4. Longlines shall be set at night only (i.e. during the hours of darkness between the times of nautical twilight ⁶) ⁷. During longline fishing at night, only the minimum ship's lights necessary for safety shall be used.

5. The dumping of offal is prohibited while longlines are being set. The dumping of offal during the haul shall be avoided. Any such discharge shall take place only on the opposite side of the vessel to that where longlines are hauled. For vessels or fisheries where there is not a requirement to retain offal on board the vessel, a system shall be implemented to remove fish hooks from offal and fish heads prior to discharge.

6. Vessels which are so configured that they lack on-board processing facilities or adequate capacity to retain offal on board, or the ability to discharge offal on the opposite side of the vessel to that where longlines are hauled, shall not be authorised to fish in the Convention Area.

7. A streamer line shall be deployed during longline setting to deter birds from approaching the hookline. Specifications of the streamer line and its method of deployment are given in the appendix to this conservation measure.

8. A device designed to discourage birds from accessing baits during the haul of longlines shall be employed in those areas defined by CCAMLR as average-to-high or high (Level of Risk 4 or 5) in terms of risk of seabird by-catch. These areas are currently Statistical Subareas 48.3, 58.6 and 58.7 and Statistical Divisions 58.5.1 and 58.5.2.

9. Every effort should be made to ensure that birds captured alive during longlining are released alive and that wherever possible hooks are removed without jeopardising the life of the bird concerned.

10. Other variations in the design of mitigation measures may be tested on vessels carrying two observers, at least one appointed in accordance with the CCAMLR Scheme of International Scientific Observation, providing that all other elements of this conservation measure are complied with ⁸. Full proposals for any such testing must be notified to the Working Group on Fish Stock Assessment (WG-FSA) in advance of the fishing season in which the trials are proposed to be conducted.

¹ Except for waters adjacent to the Kerguelen and Crozet Islands

² Except for waters adjacent to the Prince Edward Islands

³ Hookline is defined as the groundline or mainline to which the baited hooks are attached by snoods.

⁴ Traditional weights are those made from rocks or concrete.

⁵ Solid steel weights shall not be made from chain links. They should be made in a hydrodynamic shape designed to sink rapidly.

⁶ The exact times of nautical twilight are set forth in the Nautical Almanac tables for the relevant latitude, local time and date. A copy of the algorithm for calculating these times is available from the CCAMLR Secretariat. All times, whether for ship operations or observer reporting, shall be referenced to GMT.

⁷ Wherever possible, setting of lines should be completed at least three hours before sunrise (to reduce loss of bait to/catches of white-chinned petrels).

⁸ The mitigation measures under test should be constructed and operated taking full account of the principles set out in WG-FSA-03/22 (the published version of which is available from the CCAMLR Secretariat and Web site); testing should be carried out independently of actual commercial fishing and in a manner consistent with the spirit of Conservation Measure 21-02.

Appendix to Conservation Measure 25-02

1. The aerial extent of the streamer line, which is the part of the line supporting the streamers, is the effective seabird deterrent component of a streamer line. Vessels are encouraged to optimise the aerial extent and ensure that it protects the hookline as far astern of the vessel as possible, even in crosswinds.

2. The streamer line shall be attached to the vessel such that it is suspended from a point a minimum of 7 m above the water at the stern on the windward side of the point where the hookline enters the water.

3. The streamer line shall be a minimum of 150 m in length and include an object towed at the seaward end to create tension to maximise aerial coverage. The object towed should be maintained directly behind the attachment point to the vessel such that in crosswinds the aerial extent of the streamer line is over the hookline.

4. Branched streamers, each comprising two strands of a minimum of 3 mm diameter brightly coloured plastic tubing ⁹ or cord, shall be attached no more than 5 m apart commencing 5 m from the point of attachment of the streamer line to the vessel and thereafter along the aerial extent of the line. Streamer length shall range between minimums of 6.5 m from the stern to 1 m for the seaward end. When a streamer line is fully deployed, the branched streamers should reach the sea surface in the absence of wind and swell. Swivels or a similar device should be placed in the streamer line in such a way as to prevent streamers being twisted around the streamer line. Each branched streamer may also have a swivel or other device at its attachment point to the streamer line to prevent fouling of individual streamers.

5. Vessels are encouraged to deploy a second streamer line such that streamer lines are towed from the point of attachment each side of the hookline. The leeward streamer line should be of similar specifications (in order to avoid entanglement the leeward streamer line may need to be shorter) and deployed from the leeward side of the hookline.

⁹Plastic tubing should be of a type that is manufactured to be protected from ultraviolet radiation.

BILLING CODE 3510-22-P

BILLING CODE 3510-22-C

Conservation Measure 31-02 (2007) ¹ ²

General measure for the closure of all fisheries

(Species: all; Area: all; Season: all; Gear: all)

This conservation measure governs the closure of all fisheries and is adopted in accordance with Article IX of the Convention.

General application | 1. Following notification by the Secretariat of the closure of a fishery (Conservation Measures 23-01, 23-02, 23-03 and 41-01 refer), all vessels in the area, management area, subarea, division, small-scale research unit or other management unit subject to the closure notice, shall remove all their fishing gear from the water by the notified closure date and time.
| 2. On receipt of such notification by the vessel, no further longlines may be set within 24 hours of the notified closure date and time. If such notification is received less than 24 hours before the closure date and time, no further longlines may be set following receipt of that notification.
| 3. All vessels should depart the closed fishery as soon as all fishing gear has been removed from the water.
| 4. Notwithstanding paragraph 1, should it appear likely that a vessel will be unable to remove all its fishing gear from the water by the notified closure date and time because of:
| (i) Consideration of the safety of the vessel and crew;
| (ii) The limitations which may arise from adverse weather conditions;
| (iii) Sea-ice cover; or
| (iv) The need to protect the Antarctic marine environment,
| the vessel shall notify the Flag State concerned of the situation. The Flag State or vessel shall also notify the Secretariat. The vessel shall nonetheless make all reasonable efforts to remove all its fishing gear from the water as soon as possible.
Other relevant considerations | 5. In the event the vessel is unable to remove all of its fishing gear from the water by the notified closure date and time, the Flag State shall promptly inform the Secretariat. On receipt of such information the Secretariat shall promptly inform Members.
| 6. If paragraph 5 applies, the Flag State shall carry out an investigation of the vessel's actions and, according to its domestic procedures, report on its findings, including all relevant matters, to the Commission no later than the next meeting of the Commission. The final report should assess whether the vessel made all reasonable efforts to remove all its fishing gear from the water:
| (i) By the notified closure date and time; and
| (ii) As soon as possible after the notification referred to in paragraph 4.
| 7. In the event that a vessel does not depart the closed fishery as soon as all fishing gear has been removed from the water, the Flag State or vessel should inform the Secretariat. On receipt of such information the Secretariat shall promptly inform Members.
¹ Except for waters adjacent to the Kerguelen and Crozet Islands.
² Except for waters adjacent to the Prince Edward Islands.

Conservation Measure 32-09 (2007)

Prohibition of Directed Fishing for Dissostichus spp. Except in Accordance With Specific Conservation Measures in the 2007/08

Season (Species: toothfish; Area: 48.5; Season: 2007/08; Gear: all)

The Commission hereby adopts the following conservation measure in accordance with Article IX of the Convention:

Directed fishing for Dissostichus spp. in Statistical Subarea 48.5 is prohibited from 1 December 2007 to 30 November 2008.

Conservation Measure 33-02 (2007)

Limitation of By-Catch in Statistical Division 58.5.2 in the 2007/08 Season

(Species: By-catch; Area: 58.5.2; Season: 2007/08; Gear: All)

1. There shall be no directed fishing for any species other than Dissostichus eleginoides and Champsocephalus gunnari in Statistical Division 58.5.2 in the 2007/08 fishing season.

2. In directed fisheries in Statistical Division 58.5.2 in the 2007/08 season, the by-catch of Channichthys rhinoceratus shall not exceed 150 tonnes, the by-catch of Lepidonotothen squamifrons shall not exceed 80 tonnes, the by-catch of Macrourus spp. shall not exceed 360 tonnes and the by-catch of skates and rays shall not exceed 120 tonnes. For the purposes of this measure, ‘Macrourus spp.’ and ‘skates and rays’ should each be counted as a single species.

3. The by-catch of any fish species not mentioned in paragraph 2, and for which there is no other catch limit in force, shall not exceed 50 tonnes in Statistical Division 58.5.2.

4. If, in the course of a directed fishery, the by-catch in any one haul of Channichthys rhinoceratus, Lepidonotothen squamifrons, Macrourus spp., Somniosus spp. or skates and rays is equal to, or greater than 2 tonnes, then the fishing vessel shall not fish using that method of fishing at any point within 5 n miles ¹ of the location where the by-catch exceeded 2 tonnes for a period of at least five days ². The location where the by-catch exceeded 2 tonnes is defined as the path ³ followed by the fishing vessel.

5. If, in the course of a directed fishery, the by-catch in any one haul of any other by-catch species for which by-catch limitations apply under this conservation measure is equal to, or greater than 1 tonne, then the fishing vessel shall not fish using that method of fishing at any point within 5 n miles ¹ of the location where the by-catch exceeded 1 tonne for a period of at least five days. ² The location where the by-catch exceeded 1 tonne is defined as the path ³ followed by the fishing vessel.

¹ This provision concerning the minimum distance separating fishing locations is adopted pending the adoption of a more appropriate definition of a fishing location by the Commission.

² The specified period is adopted in accordance with the reporting period specified in Conservation Measure 23-01, pending the adoption of a more appropriate period by the Commission.

³ For a trawl the path is defined from the point at which the fishing gear was first deployed from the fishing vessel to the point at which the fishing gear was retrieved by the fishing vessel. For a longline or a pot, the path is defined from the point at which the first anchor of a set was deployed to the point at which the last anchor of that set was deployed.

Conservation Measure 33-03 (2007) ¹ ²

Limitation of By-Catch in New and Exploratory Fisheries in the 2007/08 Season

(Species: By-catch; Area: Various; Season: 2007/08; Gear: All)

1. This conservation measure applies to new and exploratory fisheries in all areas containing small-scale research units (SSRUs) in the 2007/08 season, except where specific by-catch limits apply.

2. The catch limits for all by-catch species are set out in Annex 33-03/A. Within these catch limits, the total catch of by-catch species in any SSRU or combination of SSRUs as defined in relevant conservation measures shall not exceed the following limits:

• Skates and rays 5% of the catch limit of Dissostichus spp. or 50 tonnes whichever is greater;

• Macrourus spp. 16% of the catch limit for Dissostichus spp. or 20 tonnes, whichever is greater;

• All other species combined 20 tonnes.

3. For the purposes of this measure ‘Macrourus spp.’ and ‘skates and rays’ should each be counted as a single species.

4. Unless otherwise requested by scientific observers, vessels, where possible, should release skates and rays alive from the line by cutting snoods, and when practical, removing the hooks.

5. If the by-catch of any one species is equal to or greater than 1 tonne in any one haul or set, then the fishing vessel shall move to another location at least 5 n miles ³ distant. The fishing vessel shall not return to any point within 5 n miles of the location where the by-catch exceeded 1 tonne for a period of at least five days ⁴. The location where the by-catch exceeded 1 tonne is defined as the path ⁵ followed by the fishing vessel.

6. If the catch of Macrourus spp. taken by a single vessel in any two 10-day periods ⁶ in a single SSRU exceeds 1 500 kg in each 10-day period and exceeds 16% of the catch of Dissostichus spp. by that vessel in that SSRU in those periods, the vessel shall cease fishing in that SSRU for the remainder of the season.

¹ Except for waters adjacent to the Kerguelen and Crozet Islands

² Except for waters adjacent to the Prince Edward Islands

³ This provision concerning the minimum distance separating fishing locations is adopted pending the adoption of a more appropriate definition of a fishing location by the Commission.

⁴ The specified period is adopted in accordance with the reporting period specified in Conservation Measure 23-01, pending the adoption of a more appropriate period by the Commission.

⁵ For a trawl the path is defined from the point at which the fishing gear was first deployed from the fishing vessel to the point at which the fishing gear was retrieved by the fishing vessel. For a longline the path is defined from the point at which the first anchor of a set was deployed to the point at which the last anchor of that set was deployed.

⁶ A 10-day period is defined as day 1 to day 10, day 11 to day 20, or day 21 to the last day of the month.

Annex 33-03/A

Table 1.— By-Catch Catch Limits for New and Exploratory Fisheries in 2007/08.
Subarea/division | Region | Dissostichus spp. catch limit (tonnes per region) | By-catch catch limit: Skates and rays (tonnes per region) | By-catch catch limit: Macrourus spp. (tonnes per region) | By-catch catch limit: Other species (tonnes per SSRU)
48.6 | North of 60°S | 200 | 50 | 32 | 20
| South of 60°S | 200 | 50 | 32 | 20
58.4.1 | Whole division | 600 | 50 | 96 | 20
58.4.2 | Whole division | 780 | 50 | 124 | 20
58.4.3a | Whole division | 250 | 50 | 26 | 20
58.4.3b | North of 60°S | 150 | 50 | 80 | 20
88.1 | Whole subarea | 2660 | 133 | 426 | 20
88.2 | South of 65°S | 547 | 50 | 88 | 20
Region: As defined in column 2 of this table.
Rules for catch limits for by-catch species:
Skates and rays: 5% of the catch limit for Dissostichus spp. or 50 tonnes, whichever is greatest (SC-CAMLR-XXI, paragraph 5.76).
Macrourus spp.: 16% of the catch limit for Dissostichus spp. or 20 tonnes whichever is greatest, except in Divisions 58.4.3a and 58.4.3b (SC-CAMLR-XXII, paragraph 4.207).
Other species: 20 tonnes per SSRU.

Conservation Measure 41-01 (2007) 1 2

General Measures for Exploratory Fisheries for Dissostichus spp. in the Convention Area in the 2007/08 Season

(Species: toothfish; Area: various; Season: 2007/08; Gear: longline, trawl)

The Commission hereby adopts the following conservation measure:

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any small-scale research unit (SSRU) shall cease when the reported catch reaches the specified catch limit ³ and that SSRU shall be closed to fishing for the remainder of the season.

3. In order to give effect to paragraph 2 above:

(i) The precise geographic position of a haul in trawl fisheries will be determined by the mid-point of the path between the start-point and end-point of the haul for the purposes of catch and effort reporting;

(ii) The precise geographic position of a haul/set in longline fisheries will be determined by the centre-point of the line or lines deployed for the purposes of catch and effort reporting;

(iii) The vessel will be deemed to be fishing in any SSRU from the beginning of the setting process until the completion of the hauling of all lines;

(iv) Catch and effort information for each species by SSRU shall be reported to the Executive Secretary every five days using the Five-day Catch and Effort Reporting System set out in Conservation Measure 23-01;

(v) The Secretariat shall notify Contracting Parties participating in these fisheries when the total catch for Dissostichus eleginoides and Dissostichus mawsoni combined in any SSRU is likely to reach the specified catch limit, and of the closure of that SSRU when that limit is reached. ⁴ No part of a trawl path may lie within a closed SSRU and no part of a longline may be set within a closed SSRU.

4. The by-catch in each exploratory fishery shall be regulated as in Conservation Measure 33-03.

5. The total number and weight of Dissostichus eleginoides and Dissostichus mawsoni discarded, including those with the `jellymeat' condition, shall be reported.

6. Each vessel participating in the exploratory fisheries for Dissostichus spp. during the 2007/08 season shall have one scientific observer appointed in accordance with the CCAMLR Scheme of International Scientific Observation, and where possible one additional scientific observer, on board throughout all fishing activities within the fishing season.

7. The Data Collection Plan (Annex 41-01/A), Research Plan (Annex 41-01/B) and Tagging Program (Annex 41-01/C) shall be implemented. Data collected pursuant to the Data Collection and Research Plans for the period up to 31 August 2008 shall be reported to CCAMLR by 30 September 2008 so that the data will be available to the meeting of the Working Group on Fish Stock Assessment (WG-FSA) in 2008. Such data taken after 31 August 2008 shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

¹ Except for waters adjacent to the Kerguelen and Crozet Islands.

² Except for waters adjacent to the Prince Edward Islands.

³ Unless otherwise specified, the catch limit for Dissostichus spp. shall be 100 tonnes in any SSRU except in respect of Statistical Subarea 88.2.

⁴ The closure of fisheries is governed by Conservation Measure 31-02.

Annex 41-01/A

Data Collection Plan for Exploratory Fisheries

1. All vessels will comply with the Five-day Catch and Effort Reporting System (Conservation Measure 23-01) and Monthly Fine-scale Catch, Effort and Biological Data Reporting Systems (Conservation Measures 23-04 and 23-05).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms;

(viii) Observation on occurrence and incidental mortality of seabirds and mammals in relation to fishing operations.

3. Data specific to longline fisheries will be collected. These include:

(i) Position and sea depth at each end of every line in a haul;

(ii) Setting, soak and hauling times;

(iii) Number and species of fish lost at surface;

(iv) Number of hooks set;

(v) Bait type;

(vi) Baiting success (%);

(vii) Hook type;

(viii) Sea and cloud conditions and phase of the moon at the time of setting the lines.

Annex 41-01/B

Research Plan for Exploratory Fisheries

1. Activities under this research plan shall not be exempted from any conservation measure in force.

2. This plan applies to all small-scale research units (SSRUs) as defined in Table 1 and Figure 1.

3. Except when fishing in Statistical Subareas 88.1 and 88.2 (see paragraph 5), any vessel undertaking prospecting or commercial fishing in any SSRU must undertake the following research activities:

(i) On first entry into an SSRU, the first 10 hauls, designated `first series', whether by trawl or longline, shall be designated `research hauls' and must satisfy the criteria set out in paragraph 4.

(ii) The next 10 hauls, or 10 tonnes of catch for longlining, whichever trigger level is achieved first, or 10 tonnes of catch for trawling, are designated the `second series'. Hauls in the second series can, at the discretion of the master, be fished as part of normal exploratory fishing. However, provided they satisfy the requirements of paragraph 4, these hauls can also be designated as research hauls.

(iii) On completion of the first and second series of hauls, if the master wishes to continue to fish within the SSRU, the vessel must undertake a `third series' which will result in a total of 20 research hauls being made in all three series. The third series of hauls shall be completed during the same visit as the first and second series in an SSRU.

(iv) On completion of 20 research hauls the vessel may continue to fish within the SSRU.

4. To be designated as a research haul:

(i) Each research haul must be separated by not less than 5 n miles from any other research haul, distance to be measured from the geographical mid-point of each research haul;

(ii) Each haul shall comprise: for longlines, at least 3 500 hooks and no more than 10 000 hooks; this may comprise a number of separate lines set in the same location; for trawls, at least 30 minutes effective fishing time as defined in the Draft Manual for Bottom Trawl Surveys in the Convention Area (SC-CAMLR-XI, Annex 5, Appendix H, Attachment E, paragraph 4);

(iii) Each haul of a longline shall have a soak time of not less than six hours, measured from the time of completion of the setting process to the beginning of the hauling process.

5. In the exploratory fisheries in Subareas 88.1 and 88.2, all data specified in the Data Collection Plan (Annex 41-01/A) of this conservation measure shall be collected for every haul; all fish of each Dissostichus species in a haul (up to a maximum of 35 fish) are to be measured and randomly sampled for biological studies (paragraphs 2(iv) to (vi) of Annex 41-01/A).

6. In all other exploratory fisheries, all data specified in the Data Collection Plan (Annex 41-01/A) of this conservation measure shall be collected for every research haul; in particular, all fish in a research haul up to 100 fish are to be measured and at least 30 fish sampled for biological studies (paragraphs 2(iv) to (vi) of Annex 41-01/A). Where more than 100 fish are caught, a method for randomly subsampling the fish should be applied.

BILLING CODE 3510-22-P

BILLING CODE 3510-22-C

Annex 41-01/C

Tagging Program for Dissostichus spp. in Exploratory Fisheries

1. The responsibility for ensuring tagging, tag recovery and correct reporting shall lie with the Flag State of the fishing vessel. The fishing vessel shall cooperate with the CCAMLR scientific observer in undertaking the tagging program.

2. This program shall apply in each exploratory longline fishery, and any vessel that participates in more than one exploratory fishery shall apply the following in each exploratory fishery in which that vessel fishes:

(i) Each longline vessel shall tag and release Dissostichus spp., continuously while fishing, at a rate specified in the conservation measure for that fishery according to the CCAMLR Tagging Protocol.¹

(ii) The program shall target toothfish of all sizes in order to meet the tagging requirement, only toothfish that are in good condition shall be tagged and the availability of these fish shall be reported by the observer. All released toothfish must be double-tagged and releases should cover as broad a geographical area as possible. In regions where both species occur, the tagging rate shall to the extent practicable be in proportion to the species and sizes of Dissostichus spp. present in the catches.

(iii) All tags shall be clearly imprinted with a unique serial number and a return address so that the origin of tags can be traced in the case of recapture of the tagged toothfish. ¹ From 1 September 2007, all tags for use in exploratory fisheries shall be sourced from the Secretariat.

(iv) Recaptured tagged fish (i.e. fish caught that have a previously inserted tag) shall not be re-released, even if at liberty for only a short period.

(v) All recaptured tagged fish should be biologically sampled (length, weight, sex, gonad stage), an electronic time-stamped photograph taken of the fish and tag, the otoliths recovered and the tag removed.

3. Toothfish that are tagged and released shall not be counted against the catch limits.

4. All relevant tag data and any data recording tag recaptures shall be reported electronically in the CCAMLR format ¹ to the Executive Secretary (i) by the vessel every month along with its monthly fine-scale catch and effort (C2) data, and (ii) by the observer as part of the data reporting requirements for observer data.¹

5. All relevant tag data, any data recording tag recaptures, and specimens (tags and otoliths) from recaptures shall also be reported electronically in the CCAMLR format ¹ to the relevant regional tag data repository as detailed in the CCAMLR Tagging Protocol (available at http://www.ccamlr.org).

¹ In accordance with the CCAMLR Tagging Protocol for exploratory fisheries which is available from the Secretariat and included in the scientific observer logbook forms.

Conservation Measure 41-02 (2007)

Limits on the fishery for Dissostichus eleginoides in Statistical Subarea 48.3 in the 2007/08 and 2008/09 seasons

(Species: toothfish; Area: 48.3; Season: 2007/08 and 2008/09; Gear: longline, pot)

The Commission hereby adopts the following conservation measure in accordance with Conservation Measure 31-01:

Access | 1. The fishery for Dissostichus eleginoides in Statistical Subarea 48.3 shall be conducted by vessels using longlines and pots only.
| 2. For the purpose of this fishery, the area open to the fishery is defined as that portion of Statistical Subarea 48.3 that lies within the area bounded by latitudes 52°30′S and 56°0′S and by longitudes 33°30′W and 48°0′W.
| 3. A map illustrating the area defined by paragraph 2 is appended to this conservation measure (Annex 41-02/A). The portion of Statistical Subarea 48.3 outside that defined above shall be closed to directed fishing for Dissostichus eleginoides in the 2007/08 and 2008/09 seasons.
Catch limit | 4. The total catch of Dissostichus eleginoides in Statistical Subarea 48.3 in the 2007/08 and 2008/09 seasons shall be limited to 3 920 tonnes in each season. The catch limit shall be further subdivided between the Management Areas shown in Annex 41-02/A as follows:
| Management Area A: 0 tonnes
| Management Area B: 1 176 tonnes in each season
| Management Area C: 2 744 tonnes in each season.
Season | 5. For the purpose of the longline fishery for Dissostichus eleginoides in Statistical Subarea 48.3, the 2007/08 and 2008/09 seasons are defined as the period from 1 May to 31 August in each season, or until the catch limit is reached, whichever is sooner. For the purpose of the pot fishery for Dissostichus eleginoides in Statistical Subarea 48.3, the 2007/08 and 2008/09 seasons are defined as the period from 1 December to 30 November, or until the catch limit is reached, whichever is sooner. The season for longline fishing operations may be extended to 14 September in each season for any vessel which has demonstrated full compliance with Conservation Measure 25-02 in the previous season. This extension to the season shall also be subject to a catch limit of three (3) seabirds per vessel. If three seabirds are caught during the season extension, fishing shall cease immediately for that vessel.
By-catch | 6. The by-catch of crab in any pot fishery undertaken shall be counted against the catch limit in the crab fishery in Statistical Subarea 48.3.
| 7. The by-catch of finfish in the fishery for Dissostichus eleginoides in Statistical Subarea 48.3 in the 2007/08 and 2008/09 seasons shall not exceed 196 tonnes for skates and rays and 196 tonnes for Macrourus spp. in each season. For the purpose of these by-catch limits, `Macrourus spp.' and `skates and rays' shall each be counted as a single species.
| 8. If the by-catch of any one species is equal to or greater than 1 tonne in any one haul or set, then the fishing vessel shall move to another location at least 5 n miles ¹ distant. The fishing vessel shall not return to any point within 5 n miles of the location where the by-catch exceeded 1 tonne for a period of at least five days. ² The location where the by-catch exceeded 1 tonne is defined as the path ³ followed by the fishing vessel.
Mitigation | 9. The operation of this fishery shall be carried out in accordance with Conservation Measure 25-02 so as to minimise the incidental mortality of seabirds in the course of fishing.
Observers | 10. Each vessel participating in this fishery shall have at least one scientific observer appointed in accordance with the CCAMLR Scheme of International Scientific Observation, and where possible one additional scientific observer, on board throughout all fishing activities within the fishing period.
Data: Catch/effort | 11. For the purpose of implementing this conservation measure, the following shall apply:
| (i) The Five-day Catch and Effort Reporting System set out in Conservation Measure 23-01;
| (ii) The Monthly Fine-scale Catch and Effort Reporting System set out in Conservation Measure 23-04. Fine-scale data shall be submitted on a haul-by-haul basis.
| 12. For the purpose of Conservation Measures 23-01 and 23-04, the target species is Dissostichus eleginoides and by-catch species are defined as any species other than Dissostichus eleginoides.
| 13. The total number and weight of Dissostichus eleginoides discarded, including those with the `jellymeat' condition, shall be reported. These fish will count towards the total allowable catch.
Data: Biological | 14. Fine-scale biological data, as required under Conservation Measure 23-05, shall be collected and recorded. Such data shall be reported in accordance with the CCAMLR Scheme of International Scientific Observation.
Research fishing | 15. Research fishing under the provisions of Conservation Measure 24-01 shall be limited to 10 tonnes of catch and to one vessel in Management Area A shown in the map in Annex 41-02/A during each season.
| 16. Catches of Dissostichus eleginoides taken under the provisions of Conservation Measure 24-01 in the area of the fishery defined in this conservation measure shall be considered as part of the catch limit.
Environmental protection | 17. Conservation Measure 26-01 applies.
¹ This provision concerning the minimum distance separating fishing locations is adopted pending the adoption of a more appropriate definition of a fishing location by the Commission.
² The specified period is adopted in accordance with the reporting period specified in Conservation Measure 23-01, pending the adoption of a more appropriate period by the Commission.
³ For a longline or a pot, the path is defined from the point at which the first anchor of a set was deployed to the point at which the last anchor of that set was deployed.

BILLING CODE 3510-22-P

BILLING CODE 3510-22-C

Conservation Measure 41-04 (2007)

Limits on the exploratory Fishery for Dissostichus spp. in Statistical Subarea 48.6 in the 2007/08 season

(Species: Toothfish; Area: 48.6; Season: 2007/08; Gear: Longline)

The Commission hereby adopts the following conservation measure in accordance with Conservation Measure 21-02:

Access | 1. Fishing for Dissostichus spp. in Statistical Subarea 48.6 shall be limited to the exploratory longline fishery by Japan, Republic of Korea, New Zealand and South Africa. The fishery shall be conducted by Japanese, Korean, New Zealand and South African flagged vessels using longlines only. No more than one vessel per country shall fish at any one time.
Catch limit | 2. The total catch of Dissostichus spp. in Statistical Subarea 48.6 in the 2007/08 season shall not exceed a precautionary catch limit of 200 tonnes north of 60°S and 200 tonnes south of 60°S.
Season | 3. For the purpose of the exploratory longline fishery for Dissostichus spp. in Statistical Subarea 48.6, the 2007/08 season is defined as the period from 1 December 2007 to 30 November 2008.
By-catch | 4. The by-catch in this fishery shall be regulated as set out in Conservation Measure 33-03.
Mitigation | 5. The exploratory longline fishery for Dissostichus spp. in Statistical Subarea 48.6 shall be carried out in accordance with the provisions of Conservation Measure 25-02, except paragraph 4 (night setting), which shall not apply as long as the requirements of Conservation Measure 24-02 are met.
| 6. Any vessel catching a total of three (3) seabirds shall immediately revert to night setting in accordance with Conservation Measure 25-02.
Observers | 7. Each vessel participating in the fishery shall have at least two scientific observers, one of whom shall be an observer appointed in accordance with the CCAMLR Scheme of International Scientific Observation, on board throughout all fishing activities within the fishing period.
Data: Catch/effort | 8. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 9. For the purpose of Conservation Measures 23-01 and 23-04, the target species is Dissostichus spp. and by-catch species are defined as any species other than Dissostichus spp.
Data: Biological | 10. Fine-scale biological data, as required under Conservation Measure 23-05, shall be collected and recorded. Such data shall be reported in accordance with the CCAMLR Scheme of International Scientific Observation.
Research | 11. Each vessel participating in this exploratory fishery shall conduct fishery-based research in accordance with the Research Plan and Tagging Program described in Conservation Measure 41-01, Annex B and Annex C respectively.
| 12. Toothfish shall be tagged at a rate of at least one fish per tonne green weight caught.
Environmental protection | 13. Conservation Measure 26-01 applies.
| 14. There shall be no offal discharge in this fishery.

Conservation Measure 41-05 (2007)

Limits on the Exploratory Fishery for Dissostichus spp. in Statistical Division 58.4.2 in the 2007/08 Season

(Species: Toothfish; Area: 58.4.2; Season: 2007/08; Gear: Longline)

The Commission hereby adopts the following conservation measure in accordance with Conservation Measure 21-02, and notes that this measure would be for one year and that data arising from these activities would be reviewed by the Scientific Committee:

Access | 1. Fishing for Dissostichus spp. in Statistical Division 58.4.2 shall be limited to the exploratory longline fishery by Australia, Japan, Republic of Korea, Namibia, New Zealand, South Africa, Spain, Ukraine and Uruguay. The fishery shall be conducted by one (1) Australian, one (1) Japanese, five (5) Korean, two (2) Namibian, two (2) New Zealand, one (1) South African, one (1) Spanish, one (1) Ukrainian and one (1) Uruguayan flagged vessels using longlines only.
Catch limit | 2. The total catch of Dissostichus spp. in Statistical Division 58.4.2, in the 2007/08 season shall not exceed a precautionary catch limit of 780 tonnes, of which no more than 260 tonnes shall be taken in any one of the five small-scale research units (SSRUs) as detailed in Annex B of Conservation Measure 41-01.
| 3. Catch limits for each of the SSRUs for Statistical Division 58.4.2 shall be as follows: A—260 tonnes; B—0 tonnes; C—260 tonnes; D—0 tonnes; E—260 tonnes.
Season | 4. For the purpose of the exploratory longline fishery for Dissostichus spp. in Statistical Division 58.4.2, the 2007/08 season is defined as the period from 1 December 2007 to 30 November 2008.
Fishing operations | 5. The exploratory longline fishery for Dissostichus spp. in Statistical Division 58.4.2 shall be carried out in accordance with the provisions of Conservation Measure 41-01, except paragraph 6.
| 6. Fishing will be prohibited in depths less than 550 m in order to protect benthic communities.
By-catch | 7. The by-catch in this fishery shall be regulated as set out in Conservation Measure 33-03.
Mitigation | 8. The exploratory longline fishery for Dissostichus spp. in Statistical Division 58.4.2 shall be carried out in accordance with the provisions of Conservation Measure 25-02, except paragraph 4 (night setting) shall not apply, providing that vessels comply with Conservation Measure 24-02.
| 9. Any vessel catching a total of three (3) seabirds shall immediately revert to night setting in accordance with Conservation Measure 25-02.
Observers | 10. Each vessel participating in the fishery shall have at least two scientific observers, one of whom shall be an observer appointed in accordance with the CCAMLR Scheme of International Scientific Observation, on board throughout all fishing activities within the fishing period.
Research | 11. Each vessel participating in this exploratory fishery shall conduct fishery-based research in accordance with the Research Plan and Tagging Program described in Conservation Measure 41-01, Annex B and Annex C respectively.
| 12. Toothfish shall be tagged at a rate of at least three fish per tonne green weight caught.
Data: Catch/effort | 13. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 14. For the purpose of Conservation Measures 23-01 and 23-04, the target species is Dissostichus spp. and by-catch species are defined as any species other than Dissostichus spp.
Data: Biological | 15. Fine-scale biological data, as required under Conservation Measure 23-05, shall be collected and recorded. Such data shall be reported in accordance with the CCAMLR Scheme of International Scientific Observation.
Environmental protection | 16. Conservation Measure 26-01 applies.

Conservation Measure 41-06 (2007)

Limits on the Exploratory Fishery for Dissostichus spp. on Elan Bank (Statistical Division 58.4.3a) Outside Areas of National Jurisdiction in the 2007/08 Season

(Species: Toothfish; Area: 58.4.3a; Season: 2007/08; Gear: Longline)

The Commission hereby adopts the following conservation measure in accordance with Conservation Measure 21-02:

Access | 1. Fishing for Dissostichus spp. on Elan Bank (Statistical Division 58.4.3a) outside areas of national jurisdiction shall be limited to the exploratory fishery by Uruguay. The fishery shall be conducted by one (1) Uruguayan flagged vessel using longlines only.
Catch limit | 2. The total catch of Dissostichus spp. on Elan Bank (Statistical Division 58.4.3a) outside areas of national jurisdiction in the 2007/08 season shall not exceed a precautionary catch limit of 250 tonnes.
Season | 3. For the purpose of the exploratory longline fishery for Dissostichus spp. on Elan Bank (Statistical Division 58.4.3a) outside areas of national jurisdiction, the 2007/08 season is defined as the period from 1 May to 31 August 2008, or until the catch limit is reached, whichever is sooner.
By-catch | 4. The by-catch in this fishery shall be regulated as set out in Conservation Measure 33-03.
Mitigation | 5. The operation of this fishery shall be carried out in accordance with Conservation Measure 25-02 so as to minimise the incidental mortality of seabirds in the course of fishing.
| 6. The fishery on Elan Bank (Statistical Division 58.4.3a) outside areas of national jurisdiction, may take place outside the prescribed season (paragraph 3) provided that, prior to entry into force of the licence and prior to entering the Convention Area, each vessel shall demonstrate its capacity to comply with longline weighting as approved by the Scientific Committee and described in Conservation Measure 24-02 and such data shall be reported to the Secretariat immediately.
| 7. Should a total of three (3) seabirds be caught by a vessel outside the normal season (defined in paragraph 3), the vessel shall cease fishing immediately and shall not be permitted to fish outside the normal fishing season for the remainder of the 2007/08 fishing season.
Observers | 8. Each vessel participating in this fishery shall have at least one scientific observer appointed in accordance with the CCAMLR Scheme of International Scientific Observation, and where possible one additional scientific observer, on board throughout all fishing activities within the fishing period.
Data: Catch/effort | 9. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 10. For the purpose of Conservation Measures 23-01 and 23-04, the target species is Dissostichus spp. and by-catch species are defined as any species other than Dissostichus spp.
Data: Biological | 11. Fine-scale biological data, as required under Conservation Measure 23-05, shall be collected and recorded. Such data shall be reported in accordance with the CCAMLR Scheme of International Scientific Observation.
Research | 12. Each vessel participating in this exploratory fishery shall conduct fishery-based research in accordance with the Research Plan and Tagging Program described in Conservation Measure 41-01, Annex B and Annex C respectively.
| 13. Toothfish shall be tagged at a rate of at least three fish per tonne green weight caught.
Environmental protection | 14. Conservation Measure 26-01 applies.

Conservation Measure 41-07 (2007)

Limits on the exploratory Fishery for Dissostichus spp. on BANZARE Bank (Statistical Division 58.4.3b) Outside Areas of National Jurisdiction in the 2007/08 Season

(Species: Toothfish; Area: 58.4.3b; Season: 2007/08; Gear: Longline)

The Commission hereby adopts the following conservation measure in accordance with Conservation Measure 21-02:

Access | 1. Fishing for Dissostichus spp. on BANZARE Bank (Statistical Division 58.4.3b) outside areas of national jurisdiction shall be limited to the exploratory fishery by Australia, Japan, Republic of Korea, Namibia, Spain and Uruguay. The fishery shall be conducted by Australian, Japanese, Korean, Namibian, Spanish and Uruguayan flagged vessels using longlines only. No more than one vessel per country shall fish at any one time.
Catch limit | 2. The total catch of Dissostichus spp. on BANZARE Bank (Statistical Division 58.4.3b) outside areas of national jurisdiction in the 2007/08 season shall not exceed:
| (i) A precautionary catch limit of 150 tonnes applied as follows:
| SSRU A—150 tonnes¹
| SSRU B—0 tonnes;
| (ii) An additional catch limit of 50 tonnes for the scientific research survey ² in SSRUs A and B in 2007/08.
Season | 3. For the purpose of the exploratory longline fishery for Dissostichus spp. on BANZARE Bank (Statistical Division 58.4.3b) outside areas of national jurisdiction, the 2007/08 season ¹ is defined as the period from 1 May to 31 August 2008, or until the catch limit is reached, whichever is sooner.
By-catch | 4. The by-catch in this fishery shall be regulated as set out in Conservation Measure 33-03.
Mitigation | 5. The operation of this fishery shall be carried out in accordance with Conservation Measure 25-02 so as to minimise the incidental mortality of seabirds in the course of fishing.
| 6. The fishery on BANZARE Bank (Statistical Division 58.4.3b) outside areas of national jurisdiction, may take place outside the prescribed season ¹ (paragraph 3) provided that, prior to entry into force of the licence and prior to entering the Convention Area, each vessel shall demonstrate its capacity to comply with experimental line-weighting trials as approved by the Scientific Committee and described in Conservation Measure 24-02 and such data shall be reported to the Secretariat immediately.
| 7. Should a total of three (3) seabirds be caught by a vessel outside the normal season (defined in paragraph 3), the vessel shall cease fishing immediately and shall not be permitted to fish outside the normal fishing season for the remainder of the 2007/08 fishing season.
Observers | 8. Each vessel participating in this fishery shall have at least one scientific observer appointed in accordance with the CCAMLR Scheme of International Scientific Observation, and where possible one additional scientific observer, on board throughout all fishing activities within the fishing period.
Data: Catch/effort | 9. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 10. For the purpose of Conservation Measures 23-01 and 23-04, the target species is Dissostichus spp. and by-catch species are defined as any species other than Dissostichus spp.
Data: Biological | 11. Fine-scale biological data, as required under Conservation Measure 23-05, shall be collected and recorded. Such data shall be reported in accordance with the CCAMLR Scheme of International Scientific Observation.
Research | 12. Each vessel participating in this exploratory fishery shall conduct fishery-based research in accordance with the Research Plan and Tagging Program described in Conservation Measure 41-01, Annex B and Annex C respectively.
| 13. Toothfish shall be tagged at a rate of at least three fish per tonne green weight caught.
Environmental protection | 14. Conservation Measure 26-01 applies.
¹ Fishing is not to occur during the period from 16 March 2008 until the end of the scientific research survey or 1 June 2008, whichever is sooner.
² The scientific research survey will be that notified by Australia (SC-CAMLR-XXVI, paragraphs 9.8 to 9.10) and completed prior to 1 June 2008. Australia will notify the Secretariat at least three months before the start of the survey of the date of that start, and will further notify the Secretariat of the date of completion of the survey. The Secretariat will circulate this information to Members.

Conservation Measure 41-08 (2007)

Limits on the Fishery for Dissostichus Eleginoides in Statistical Division 58.5.2 in the 2007/08 and 2008/09 Seasons

(Species: Toothfish; Area: 58.5.2; Season: 2007/08 and 2008/09; Gear: Various)

Access | 1. The fishery for Dissostichus eleginoides in Statistical Division 58.5.2 shall be conducted by vessels using trawls, pots or longlines only.
Catch limit | 2. The total catch of Dissostichus eleginoides in Statistical Division 58.5.2 in the 2007/08 and 2008/09 seasons shall be limited to 2 500 tonnes west of 79°20′ E.
Season | 3. For the purpose of the trawl and pot fisheries for Dissostichus eleginoides in Statistical Division 58.5.2, the 2007/08 and 2008/09 seasons are defined as the period from 1 December to 30 November, or until the catch limit is reached, whichever is sooner. For the purpose of the longline fishery for Dissostichus eleginoides in Statistical Division 58.5.2, the 2007/08 and 2008/09 seasons are defined as the period from 1 May to 14 September in each season, or until the catch limit is reached, whichever is sooner. The season for longline fishing operations may be extended from 15 April to 30 April and 15 September to 31 October in each season for any vessel which has demonstrated full compliance with Conservation Measure 25-02 in the previous season. These extensions to the season will also be subject to a total catch limit of three (3) seabirds per vessel. If three seabirds are caught during the season extension, fishing throughout the season extensions shall cease immediately for that vessel.
By-catch | 4. Fishing shall cease if the by-catch of any species reaches its by-catch limit as set out in Conservation Measure 33-02.
Mitigation | 5. The operation of the trawl fishery shall be carried out in accordance with Conservation Measure 25-03 so as to minimise the incidental mortality of seabirds and mammals through the course of fishing. The operation of the longline fishery shall be carried out in accordance with Conservation Measure 25-02, except paragraph 4 (night setting) shall not apply for vessels using integrated weighted lines (IWLs) during the period 1 May to 31 October in each season. Such vessels may deploy IWL gear during daylight hours if, prior to entry into force of the licence and prior to entering the Convention Area, each vessel shall demonstrate its capacity to comply with experimental line-weighting trials as approved by the Scientific Committee and described in Conservation Measure 24-02. During the period 15 April to 30 April in each season, vessels shall use IWL gear and in a manner that ensures lines are set and hauled sequentially, in conjunction with night setting and paired streamer lines.
Observers | 6. Each vessel participating in this fishery shall have at least one scientific observer, and may include one appointed in accordance with the CCAMLR Scheme of International Scientific Observation, on board throughout all fishing activities within the fishing period, with the exception of the period 15 April to 30 April in each season when two scientific observers shall be carried.
Data: Catch/effort | 7. For the purpose of implementing this conservation measure, the following shall apply:
| (i) The Ten-day Catch and Effort Reporting System set out in Annex 41-08/A;
| (ii) The Monthly Fine-scale Catch and Effort Reporting System set out in Annex 41-08/A. Fine-scale data shall be submitted on a haul-by-haul basis.
| 8. For the purpose of Annex 41-08/A, the target species is Dissostichus eleginoides and by-catch species are defined as any species other than Dissostichus eleginoides.
| 9. The total number and weight of Dissostichus eleginoides discarded, including those with the ‘jellymeat' condition, shall be reported. These fish will count towards the total allowable catch.
Data: Biological | 10. Fine-scale biological data, as required under Annex 41-08/A, shall be collected and recorded. Such data shall be reported in accordance with the CCAMLR Scheme of International Scientific Observation.
Environmental protection | 11. Conservation Measure 26-01 applies.

Annex 41-08/A

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Dissostichus eleginoides and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date;

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1 for trawl fishing, form C2 for longline fishing, or form C5 for pot fishing, latest versions. These data shall be submitted to the CCAMLR Secretariat not later than one month after the vessel returns to port;

(ii) The catch of Dissostichus eleginoides and of all by-catch species must be reported;

(iii) The numbers of seabirds and marine mammals of each species caught and released or killed must be reported;

(iv) The scientific observer(s) aboard each vessel shall collect data on the length composition from representative samples of Dissostichus eleginoides and by-catch species:

(a) Length measurements shall be to the nearest centimetre below;

(b) Representative samples of length composition shall be taken from each fine-scale grid rectangle (0.5° latitude by 1° longitude) fished in each calendar month;

(v) The above data shall be submitted to the CCAMLR Secretariat not later than one month after the vessel returns to port.

Conservation Measure 41-09 (2007)

Limits on the exploratory Fishery for Dissostichus spp. in Statistical Subarea 88.1 in the 2007/08 season

(Species: Toothfish; Area: 88.1; Season: 2007/08; Gear: Longline)

The Commission hereby adopts the following conservation measure in accordance with Conservation Measure 21-02:

Access | 1. Fishing for Dissostichus spp. in Statistical Subarea 88.1 shall be limited to the exploratory longline fishery by Argentina, Republic of Korea, Namibia, New Zealand, Russia, South Africa, Spain, UK and Uruguay. The fishery shall be conducted by a maximum in the season of two (2) Argentine, five (5) Korean, one (1) Namibian, four (4) New Zealand, two (2) Russian, one (1) South African, one (1) Spanish, three (3) UK and two (2) Uruguayan flagged vessels using longlines only.
Catch limit | 2. The total catch of Dissostichus spp. in Statistical Subarea 88.1 in the 2007/08 season shall not exceed a precautionary catch limit of 2 700 tonnes of which 40 tonnes is set aside for research fishing (see paragraph 12) and the remaining 2 660 tonnes is applied as follows:
| SSRU A—0 tonnes
| SSRUs B, C and G—313 tonnes total
| SSRU D—0 tonnes
| SSRU E—0 tonnes
| SSRU F—0 tonnes
| SSRUs H, I and K—1 698 tonnes total
| SSRU J—495 tonnes
| SSRU L—154 tonnes.
Season | 3. For the purpose of the exploratory longline fishery for Dissostichus spp. in Statistical Subarea 88.1, the 2007/08 season is defined as the period from 1 December 2007 to 31 August 2008.
Fishing operations | 4. The exploratory longline fishery for Dissostichus spp. in Statistical Subarea 88.1 shall be carried out in accordance with the provisions of Conservation Measure 41-01, except paragraph 6.
By-catch | 5. The total by-catch in Statistical Subarea 88.1 in the 2007/08 season shall not exceed a precautionary catch limit of 133 tonnes of skates and rays, and 426 tonnes of Macrourus spp. Within these total by-catch limits, individual limits will apply as follows:
| SSRU A—0 tonnes of any species
| SSRUs B, C and G total—50 tonnes of skates and rays, 50 tonnes of Macrourus spp., 60 tonnes of other species
| SSRU D—0 tonnes of any species
| SSRU E—0 tonnes of any species
| SSRU F—0 tonnes of any species
| SSRUs H, I and K total—84 tonnes of skates and rays, 271 tonnes of Macrourus spp., 60 tonnes of other species
| SSRU J—50 tonnes of skates and rays, 79 tonnes of Macrourus spp., 20 tonnes of other species
| SSRU L—50 tonnes of skates and rays, 24 tonnes of Macrourus spp., 20 tonnes of other species.
| The by-catch in this fishery shall be regulated as set out in Conservation Measure 33-03.
Mitigation | 6. The exploratory longline fishery for Dissostichus spp. in Statistical Subarea 88.1 shall be carried out in accordance with the provisions of Conservation Measure 25-02, except paragraph 4 (night setting), which shall not apply as long as the requirements of Conservation Measure 24-02 are met.
| 7. Any vessel catching a total of three (3) seabirds shall immediately revert to night setting in accordance with Conservation Measure 25-02.
Observers | 8. Each vessel participating in the fishery shall have at least two scientific observers, one of whom shall be an observer appointed in accordance with the CCAMLR Scheme of International Scientific Observation, on board throughout all fishing activities within the fishing period.
VMS | 9. Each vessel participating in this exploratory longline fishery shall be required to operate a VMS at all times, in accordance with Conservation Measure 10-04.
CDS | 10. Each vessel participating in this exploratory longline fishery shall be required to participate in the Catch Documentation Scheme for Dissostichus spp., in accordance with Conservation Measure 10-05.
Research | 11. Each vessel participating in this exploratory fishery shall conduct fishery-based research in accordance with the Research Plan and Tagging Program described in Conservation Measure 41-01, Annex B and Annex C respectively. The setting of research hauls (Conservation Measure 41-01, Annex B, paragraphs 3 and 4) is not required.
| 12. Research fishing under Conservation Measure 24-01 shall be limited to 10 tonnes of Dissostichus spp. green weight and a single vessel in each of SSRUs A, D, E and F during the 2007/08 season.
| 13. Toothfish shall be tagged at a rate of at least one fish per tonne green weight caught in each SSRU, except in SSRUs A, D, E and F where, under the 10-tonne research fishing limit, toothfish shall be tagged at a rate of at least three fish per tonne green weight caught.
Data: Catch/effort | 14. For the purpose of implementing this conservation measure in the 2007/08 season, the following shall apply:
| (i) the Five-day Catch and Effort Reporting System set out in Conservation Measure 23-01;
| (ii) the Monthly Fine-scale Catch and Effort Reporting System set out in Conservation Measure 23-04. Fine-scale data shall be submitted on a haul-by-haul basis.
| 15. For the purpose of Conservation Measures 23-01 and 23-04, the target species is Dissostichus spp. and by-catch species are defined as any species other than Dissostichus spp.
Data: Biological | 16. Fine-scale biological data, as required under Conservation Measure 23-05, shall be collected and recorded. Such data shall be reported in accordance with the CCAMLR Scheme of International Scientific Observation.
Environmental protection | 17. Conservation Measure 26-01 applies.
Additional elements | 18. Fishing for Dissostichus spp. in Statistical Subarea 88.1 shall be prohibited within 10 n miles of the coast of the Balleny Islands.

Conservation Measure 41-10 (2007)

Limits on the Exploratory Fishery for Dissostichus spp. in Statistical Subarea 88.2 in the 2007/08 Season

(Species: toothfish; Area: 88.2; Season: 2007/08; Gear: longline)

The Commission hereby adopts the following conservation measure in accordance with Conservation Measure 21-02:

Access | 1. Fishing for Dissostichus spp. in Statistical Subarea 88.2 shall be limited to the exploratory longline fishery by Argentina, New Zealand, Russia, South Africa, Spain, UK and Uruguay. The fishery shall be conducted by a maximum in the season of two (2) Argentine, four (4) New Zealand, two (2) Russian, one (1) South African, one (1) Spanish, three (3) UK and two (2) Uruguayan flagged vessels using longlines only.
Catch limit | 2. The total catch of Dissostichus spp. in Statistical Subarea 88.2 south of 65 S in the 2007/08 season shall not exceed a precautionary catch limit of 567 tonnes of which 20 tonnes is set aside for research fishing (see paragraph 12) and the remaining 547 tonnes is applied as follows:
| SSRU A-0 tonnes
| SSRU B-0 tonnes
| SSRUs C, D, F and G-206 tonnes total
| SSRU E-341 tonnes.
Season | 3. For the purpose of the exploratory longline fishery for Dissostichus spp. in Statistical Subarea 88.2, the 2007/08 season is defined as the period from 1 December 2007 to 31 August 2008.
| 4. The exploratory longline fishery for Dissostichus spp. in Statistical Subarea 88.2 shall be carried out in accordance with the provisions of Conservation Measure 41-01, except paragraph 6.
By-catch | 5. The total by-catch in Statistical Subarea 88.2 in the 2007/08 season shall not exceed a precautionary catch limit of 50 tonnes of skates and rays, and 88 tonnes of Macrourus spp. Within these total by-catch limits, individual limits will apply as follows:
| SSRU A-0 tonnes of any species
| SSRU B-0 tonnes of any species
| SSRUs C, D, F, G-50 tonnes of skates and rays, 33 tonnes of Macrourus spp., 20 tonnes of other species in any SSRU
| SSRU E-50 tonnes of skates and rays, 55 tonnes of Macrourus spp., 20 tonnes of other species.
| The by-catch in this fishery shall be regulated as set out in Conservation Measure 33-03.
Mitigation | 6. The exploratory longline fishery for Dissostichus spp. in Statistical Subarea 88.2 shall be carried out in accordance with the provisions of Conservation Measure 25-02, except paragraph 4 (night setting), which shall not apply as long as the requirements of ConservationMeasure 24-02 are met.
| 7. Any vessel catching a total of three (3) seabirds shall immediately revert to night setting in accordance with Conservation Measure 25-02.
Observers | 8. Each vessel participating in the fishery shall have at least two scientific observers, one of whom shall be an observer appointed in accordance with the CCAMLR Scheme of International Scientific Observation, on board throughout all fishing activities within the fishing period.
VMS | 9. Each vessel participating in this exploratory longline fishery shall be required to operate a VMS at all times, in accordance with Conservation Measure 10-04.
CDS | 10. Each vessel participating in this exploratory longline fishery shall be required to participate in the Catch Documentation Scheme for Dissostichus spp., in accordance with Conservation Measure 10-05.
Research | 11. Each vessel participating in this exploratory fishery shall conduct fishery-based research in accordance with the Research Plan and Tagging Program described in Conservation Measure 41-01, Annex B and Annex C respectively. The setting of research hauls (Conservation Measure 41-01, Annex B, paragraphs 3 and 4) is not required.
| 12. Research fishing under Conservation Measure 24-01 shall be limited to 10 tonnes of Dissostichus spp. green weight and a single vessel in each of SSRUs A and B during the 2007/08 season.
| 13. Toothfish shall be tagged at a rate of at least one fish per tonne green weight caught in each SSRU, except in SSRUs A and B where, under the 10-tonne research fishing limit, toothfish shall be tagged at a rate of at least three fish per tonne green weight caught.
Data: Catch/effort | 14. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 15. For the purpose of Conservation Measures 23-01 and 23-04, the target species is Dissostichus spp. and by-catch species are defined as any species other than Dissostichus spp.
Data: Biological | 16. Fine-scale biological data, as required under Conservation Measure 23-05, shall be collected and recorded. Such data shall be reported in accordance with the CCAMLR Scheme of International Scientific Observation.
Environmental protection | 17. Conservation Measure 26-01 applies.

Conservation Measure 41-11 (2007)

Limits on the Exploratory Fishery for Dissostichus spp. in Statistical Division 58.4.1 in the 2007/08 Season

(Species: Toothfish; Area: 58.4.1; Season: 2007/08; Gear: Longline)

The Commission hereby adopts the following conservation measure in accordance with Conservation Measure 21-02, and notes that this measure would be for one year and that data arising from these activities would be reviewed by the Scientific Committee:

Access | 1. Fishing for Dissostichus spp. in Statistical Division 58.4.1 shall be limited to the exploratory longline fishery by Australia, Japan, Republic of Korea, Namibia, New Zealand, Spain, Ukraine and Uruguay. The fishery shall be conducted by one (1) Australian, one (1) Japanese, five (5) Korean, two (2) Namibian, three (3) New Zealander, one (1) Spanish, one (1) Ukrainian and one (1) Uruguayan flagged vessels using longlines only.
Catch limit | 2. The total catch of Dissostichus spp. in Statistical Division 58.4.1 in the 2007/08 season shall not exceed a precautionary catch limit of 600 tonnes, of which no more than 200 tonnes shall be taken in any one of the eight small-scale research units (SSRUs) as detailed in Annex B of Conservation Measure 41-01.
| 3. Catch limits for each of the SSRUs for Statistical Division 58.4.1 shall be as follows:
| SSRU A—0 tonnes
| SSRU B—0 tonnes
| SSRU C—200 tonnes
| SSRU D—0 tonnes
| SSRU E—200 tonnes
| SSRU F—0 tonnes
| SSRU G—200 tonnes
| SSRU H—0 tonnes.
Season | 4. For the purpose of the exploratory longline fishery for Dissostichus spp. in Statistical Division 58.4.1, the 2007/08 season is defined as the period from 1 December 2007 to 30 November 2008.
Fishing operations | 5. The exploratory longline fishery for Dissostichus spp. in Statistical Division 58.4.1 shall be carried out in accordance with the provisions of Conservation Measure 41-01, except paragraph 6.
| 6. Fishing will be prohibited in depths less than 550 m in order to protect benthic communities.
By-catch | 7. The by-catch in this fishery shall be regulated as set out in Conservation Measure 33-03.
Mitigation | 8. The exploratory longline fishery for Dissostichus spp. in Statistical Division 58.4.1 shall be carried out in accordance with the provisions of Conservation Measure 25-02, except paragraph 4 (night setting) shall not apply, providing that vessels comply with Conservation Measure 24-02.
| 9. Any vessel catching a total of three (3) seabirds shall immediately revert to night setting in accordance with Conservation Measure 25-02.
Observers | 10. Each vessel participating in the fishery shall have at least two scientific observers, one of whom shall be an observer appointed in accordance with the CCAMLR Scheme of International Scientific Observation, on board throughout all fishing activities within the fishing period.
Research | 11. Each vessel participating in this exploratory fishery shall conduct fishery-based research in accordance with the Research Plan and Tagging Program described in Conservation Measure 41-01, Annex B and Annex C respectively.
| 12. Research fishing under Conservation Measure 24-01 shall be limited to 10 tonnes of Dissostichus spp. green weight and a single vessel in each of SSRUs A, B, D, F and H during the 2007/08 season.
| 13. Toothfish shall be tagged at a rate of at least three fish per tonne green weight caught.
Data: Catch/effort | 14. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 15. For the purpose of Conservation Measures 23-01 and 23-04, the target species is Dissostichus spp. and by-catch species are defined as any species other than Dissostichus spp.
Data: Biological | 16. Fine-scale biological data, as required under Conservation Measure 23-05, shall be collected and recorded. Such data shall be reported in accordance with the CCAMLR Scheme of International Scientific Observation.
Environmental protection | 17. Conservation Measure 26-01 applies.
| 18. There shall be no offal discharge in this fishery.

Conservation Measure 42-01 (2007)

Limits on the Fishery for Champsocephalus gunnari in Statistical Subarea 48.3 in the 2007/08 Season

(Species: Icefish; Area: 48.3; Season: 2007/08; Gear: Trawl)

The Commission hereby adopts the following conservation measure in accordance with Conservation Measure 31-01:

Access | 1. The fishery for Champsocephalus gunnari in Statistical Subarea 48.3 shall be conducted by vessels using trawls only. The use of bottom trawls in the directed fishery for Champsocephalus gunnari in Statistical Subarea 48.3 is prohibited.
| 2. Fishing for Champsocephalus gunnari shall be prohibited within 12 n miles of the coast of South Georgia during the period 1 March to 31 May.
Catch limit | 3. The total catch of Champsocephalus gunnari in Statistical Subarea 48.3 in the 2007/08 season shall be limited to 2 462 tonnes.
| 4. Where any haul contains more than 100 kg of Champsocephalus gunnari, and more than 10% of the Champsocephalus gunnari by number are smaller than 240 mm total length, the fishing vessel shall move to another fishing location at least 5 n miles distant. ¹ The fishing vessel shall not return to any point within 5 n miles of the location where the catch of small Champsocephalus gunnari exceeded 10%, for a period of at least five days². The location where the catch of small Champsocephalus gunnari exceeded 10% is defined as the path followed by the fishing vessel from the point at which the fishing gear was first deployed from the fishing vessel to the point at which the fishing gear was retrieved by the fishing vessel.
Season | 5. For the purpose of the trawl fishery for Champsocephalus gunnari in Statistical Subarea 48.3, the 2007/08 season is defined as the period from 15 November 2007 to 14 November 2008, or until the catch limit is reached, whichever is sooner.
By-catch | 6. The by-catch in this fishery shall be regulated as set out in Conservation Measure 33-01. If, in the course of the directed fishery for Champsocephalus gunnari, the by-catch in any one haul of any of the species named in Conservation Measure 33-01.
| • Is greater than 100 kg and exceeds 5% of the total catch of all fish by weight, or
| • Is equal to or greater than 2 tonnes, then
| The fishing vessel shall move to another location at least 5 n miles distant.¹ The fishing vessel shall not return to any point within 5 n miles of the location where the by-catch of species named in Conservation Measure 33-01 exceeded 5% for a period of at least five days. ² The location where the by-catch exceeded 5% is defined as the path followed by the fishing vessel from the point at which the fishing gear was first deployed from the fishing vessel to the point at which the fishing gear was retrieved by the fishing vessel.
Mitigation | 7. The operation of this fishery shall be carried out in accordance with Conservation Measure 25-03 so as to minimise the incidental mortality of seabirds in the course of the fishery. Vessels shall use net binding ³ and consider adding weight to the codend to reduce seabird captures during shooting operations.
| 8. Should any vessel catch a total of 20 seabirds, it shall cease fishing and shall be excluded from further participation in the fishery in the 2007/08 season.
Observers | 9. Each vessel participating in this fishery shall have at least one scientific observer appointed in accordance with the CCAMLR Scheme of International Scientific Observation, and where possible one additional scientific observer, on board throughout all fishing activities within the fishing period.
Data: Catch/effort | 10. For the purpose of implementing this conservation measure in the 2007/08 season, the following shall apply:
| (i) The Five-day Catch and Effort Reporting System set out in Conservation Measure 23-01;
| (ii) The Monthly Fine-scale Catch and Effort Reporting System set out in Conservation Measure 23-04. Fine-scale data shall be submitted on a haul-by-haul basis.
| 11. For the purpose of Conservation Measures 23-01 and 23-04, the target species is Champsocephalus gunnari and by-catch species are defined as any species other than Champsocephalus gunnari.
Data: Biological | 12. Fine-scale biological data, as required under Conservation Measure 23-05, shall be collected and recorded. Such data shall be reported in accordance with the CCAMLR Scheme of International Scientific Observation.
Environmental protection | 14. Conservation Measure 26-01 applies.
¹ This provision concerning the minimum distance separating fishing locations is adopted pending the adoption of a more appropriate definition of a fishing location by the Commission.
² The specified period is adopted in accordance with the reporting period specified in Conservation Measure 23-01, pending the adoption of a more appropriate period by the Commission.
³ See SC-CAMLR-XXV, Annex 5, Appendix D, paragraph 59 for guidelines for net binding.

Conservation Measure 42-02 (2007)

Limits on the Fishery for Champsocephalus gunnari in Statistical Division 58.5.2 in the 2007/08 Season

(Species: Icefish; Area: 58.5.2; Season: 2007/08; Gear: Trawl)

Access | 1. The fishery for Champsocephalus gunnari in Statistical Division 58.5.2 shall be conducted by vessels using trawls only.
| 2. For the purpose of this fishery for Champsocephalus gunnari, the area open to the fishery is defined as that portion of Statistical Division 58.5.2 that lies within the area enclosed by a line:
| (i) Starting at the point where the meridian of longitude 72°15′E intersects the Australia-France Maritime Delimitation Agreement Boundary then south along the meridian to its intersection with the parallel of latitude 53°25′S;
| (ii) Then east along that parallel to its intersection with the meridian of longitude 74°E;
| (iii) Then northeasterly along the geodesic to the intersection of the parallel of latitude 52°40′S and the meridian of longitude 76°E;
| (iv) Then north along the meridian to its intersection with the parallel of latitude 52°S;
| (v) Then northwesterly along the geodesic to the intersection of the parallel of latitude 51°S with the meridian of longitude 74°30′E;
| (vi) Then southwesterly along the geodesic to the point of commencement.
| 3. A chart illustrating the above definition is appended to this conservation measure (Annex 42-02/A). Areas in Statistical Division 58.5.2 outside that defined above shall be closed to directed fishing for Champsocephalus gunnari.
Catch limit | 4. The total catch of Champsocephalus gunnari in Statistical Division 58.5.2 in the 2007/08 season shall be limited to 220 tonnes.
| 5. Where any haul contains more than 100 kg of Champsocephalus gunnari, and more than 10% of the Champsocephalus gunnari by number are smaller than the specified minimum legal total length, the fishing vessel shall move to another fishing location at least 5 n miles distant. ¹ The fishing vessel shall not return to any point within 5 n miles of the location where the catch of small Champsocephalus gunnari exceeded 10% for a period of at least five days. ² The location where the catch of small Champsocephalus gunnari exceeded 10% is defined as the path followed by the fishing vessel from the point at which the fishing gear was first deployed from the fishing vessel to the point at which the fishing gear was retrieved by the fishing vessel. The minimum legal total length shall be 240 mm.
Season | 6. For the purpose of the trawl fishery for Champsocephalus gunnari in Statistical Division 58.5.2, the 2007/08 season is defined as the period from 1 December 2007 to 30 November 2008, or until the catch limit is reached, whichever is sooner.
By-catch | 7. Fishing shall cease if the by-catch of any species reaches its by-catch limit as set out in Conservation Measure 33-02.
Mitigation | 8. The operation of this fishery shall be carried out in accordance with Conservation Measure 25-03 so as to minimise the incidental mortality of seabirds in the course of fishing.
Observers | 9. Each vessel participating in this fishery shall have at least one scientific observer, and may include one appointed in accordance with the CCAMLR Scheme of International Scientific Observation, on board throughout all fishing activities within the fishing period.
Data: Catch/effort | 10. For the purpose of implementing this conservation measure in the 2007/08 season, the following shall apply:
| (i) The Ten-day Catch and Effort Reporting System set out in Annex 42-02/B;
| (ii) The Monthly Fine-scale Catch and Effort Reporting System set out in Annex 42-02/B. Fine-scale data shall be submitted on a haul-by-haul basis.
| 11. For the purpose of Annex 42-02/B, the target species is Champsocephalus gunnari and by-catch species are defined as any species other than Champsocephalus gunnari.
Data: Biological | 12. Fine-scale biological data, as required under Annex 42-02/B, shall be collected and recorded. Such data shall be reported in accordance with the CCAMLR Scheme of International Scientific Observation.
Environmental protection | 13. Conservation Measure 26-01 applies.
¹ This provision concerning the minimum distance separating fishing locations is adopted pending the adoption of a more appropriate definition of a fishing location by the Commission.
² The specified period is adopted in accordance with the reporting period specified in Conservation Measure 23-01, pending the adoption of a more appropriate period by the Commission.

BILLING CODE 3510-22-P

BILLING CODE 3510-22-C

Annex 42-02/B

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Champsocephalus gunnari and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date;

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Champsocephalus gunnari and of all by-catch species must be reported;

(iii) The numbers of seabirds and marine mammals of each species caught and released or killed must be reported;

(iv) The scientific observer(s) aboard each vessel shall collect data on the length composition from representative samples of Champsocephalus gunnari and by-catch species:

(a) Length measurements shall be to the nearest centimetre below;

(b) Representative samples of length composition shall be taken from each fine-scale grid rectangle (0.5° latitude by 1° longitude) fished in each calendar month;

(v) The above data shall be submitted to the CCAMLR Secretariat not later than one month after the vessel returns to port.

Conservation Measure 51-01 (2007)

Precautionary Catch Limitations on Euphausia Superba in Statistical Subareas 48.1, 48.2, 48.3, and 48.4

(Species: Krill; Area: 48.1. 48.2, 48.3, 48.4; Season: All; Gear: All)

The Commission,

Noting that it has agreed (CCAMLR-XIX, paragraph 10.11) that the krill catches in Statistical Subareas 48.1, 48.2, 48.3 and 48.4 shall not exceed a set level, defined herein as a trigger level, until a procedure for division of the overall catch limit into smaller management units has been established, and that the Scientific Committee has been directed to provide advice on such a subdivision,

Recognizing that the Scientific Committee agreed a trigger level of 620,000 tonnes, adopts the following measure in accordance with Article IX of its Convention:

Catch limit | 1. The total combined catch of Euphausia superba in Statistical Subareas 48.1, 48.2, 48.3 and 48.4 shall be limited to 3.47 million tonnes in any fishing season.
Trigger level | 2. Until the Commission has defined an allocation of this total catch limit between smaller management units ¹, based on the advice from the Scientific Committee, the total combined catch in Statistical Subareas 48.1, 48.2, 48.3 and 48.4 shall be further limited to 620 000 tonnes in any fishing season.
| 3. This measure shall be kept under review by the Commission, taking into account the advice of the Scientific Committee.
Season | 4. A fishing season begins on 1 December and finishes on 30 November of the following year.
Data | 5. For the purpose of implementing this conservation measure, the data requirements set out in Conservation Measure 23-06 shall apply.
Environmental protection | 6. Conservation Measure 26-01 applies.
¹ Defined in CCAMLR-XXI, paragraph 4.5.

Conservation Measure 51-03 (2007)

Precautionary catch limitation on Euphausia superba in Statistical Division 58.4.2

(Species: Krill; Area: 58.4.2; Season: All; Gear: Trawl)

Catch limit | 1. The total catch of Euphausia superba in Statistical Division 58.4.2 shall be limited to 2.645 million tonnes in any fishing season.
| 2. The total catch limit shall be further subdivided into two subdivisions within Statistical Division 58.4.2 as follows: West of 55° E, 1.448 million tonnes; and east of 55° E, 1.080 million tonnes.
Trigger level ¹ | 3. Until the Commission has defined an allocation of this total catch limit between smaller management units, as the Scientific Committee may advise, the total catch in Division 58.4.2 shall be limited to 260 000 tonnes west of 55° E and 192 000 tonnes east of 55° E in any fishing season.
| 4. This measure shall be kept under review by the Commission, taking into account the advice of the Scientific Committee.
Season | 5. A fishing season begins on 1 December and finishes on 30 November of the following year.
Observers | 6. Each vessel participating in the fishery shall have at least one scientific observer in accordance with the CCAMLR Scheme of International Scientific Observation or a domestic scientific observer fulfilling the requests in the scheme, and where possible one additional scientific observer, on board throughout all fishing activities within the fishing period. ²
Data | 7. For the purposes of implementing this conservation measure, the data requirements set out in Conservation Measure 23-06 shall apply.
Environmental protection | 8. Conservation Measure 26-01 applies.
¹ A trigger level is a set level that the catch shall not exceed until a procedure for the division of the overall catch limit into smaller management units, upon which the Scientific Committee has been directed to provide advice, has been established.
² Bearing in mind the limited ecological information from research and fisheries observers in Statistical Division 58.4.2 compared to Area 48, the Commission recognised the need to collect scientific data from the fishery. This paragraph applies only to the krill fishery in Statistical Division 58.4.2 and shall be revised depending on the advice of the Scientific Committee on a systematic scheme for scientific observation in the krill fishery or reviewed within three years, whichever comes earlier.

Conservation Measure 52-01 (2007)

Limits on the Fishery for Crab in Statistical Subarea 48.3 in the 2007/08 Season

(Species: Crab; Area: 48.3; Season: 2007/08; Gear: Pot)

The Commission hereby adopts the following conservation measure in accordance with Conservation Measure 31-01:

Access | 1. The fishery for crab in Statistical Subarea 48.3 shall be conducted by vessels using pots only. The crab fishery is defined as any commercial harvest activity in which the target species is any member of the crab group (Order Decapoda, Suborder Reptantia).
| 2. The crab fishery shall be limited to one vessel per Member.
| 3. Each Member intending to participate in the crab fishery shall notify the CCAMLR Secretariat at least three months in advance of starting fishing of the name, type, size, registration number, radio call sign, and research and fishing operations plan of the vessel that the Member has authorised to participate in the crab fishery.
Catch limit | 4. The total catch of crab in Statistical Subarea 48.3 in the 2007/08 season shall not exceed a precautionary catch limit of 1,600 tonnes.
| 5. The crab fishery shall be limited to sexually mature male crabs—all female and undersized male crabs caught shall be released unharmed. In the case of Paralomis spinosissima and Paralomis formosa, males with a minimum carapace width of 94 and 90 mm respectively, may be retained in the catch.
Season | 6. For the purpose of the pot fishery for crab in Statistical Subarea 48.3, the 2007/08 season is defined as the period from 1 December 2007 to 30 November 2008, or until the catch limit is reached, whichever is sooner.
By-catch | 7. The by-catch of Dissostichus eleginoides shall be counted against the catch limit in the fishery for Dissostichus eleginoides in Statistical Subarea 48.3.
Observers | 8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.
Data: Catch/effort | 9. For the purpose of implementing this conservation measure in the 2007/08 season, the following shall apply:
| (i) The Ten-day Catch and Effort Reporting System set out in Conservation Measure 23-02;
| (ii) The Monthly Fine-scale Catch and Effort Reporting System set out in Conservation Measure 23-04. Fine-scale data shall be submitted on a haul-by-haul basis.
| 10. For the purpose of Conservation Measures 23-02 and 23-04 the target species is crab and by-catch species are defined as any species other than crab.
Data: Biological | 11. Fine-scale biological data, as required under Conservation Measure 23-05, shall be collected and recorded. Such data shall be reported in accordance with the CCAMLR Scheme of International Scientific Observation.
Research | 12. Each vessel participating in this exploratory fishery shall conduct fishery-based research in accordance with the data requirements described in Annex 52-01/A and the experimental harvest regime described in Conservation Measure 52-02. Data collected for the period up to 31 August 2008 shall be reported to CCAMLR by 30 September 2008 so that the data will be available to the meeting of the Working Group on Fish Stock Assessment (WG-FSA) in 2008. Such data collected after 31 August 2008 shall be reported to CCAMLR not later than three months after the closure of the fishery.
Environmental protection | 13. Conservation Measure 26-01 applies.

Annex 52-01/A

Data Requirements on the Crab Fishery in Statistical Subarea 48.3

Catch and Effort Data:

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Table 1.—Data Requirements for By-Catch Species in the Crab Fishery in Statistical Subarea 48.3
Species | Data requirements
Dissostichus eleginoides | Numbers and estimated total weight.
Notothenia rossii | Numbers and estimated total weight.
Other species | Estimated total weight.

Biological Data:

For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Conservation Measure 52-02 (2007)

Experimental Harvest Regime for the Crab Fishery in Statistical Subarea 48.3 in the 2007/08 Season

(Species: Crab; Area: 48.3; Season: 2007/08; Gear: Pot)

The following measures apply to all crab fishing within Statistical Subarea 48.3 in the 2007/08 fishing season. Every vessel participating in the crab fishery in Statistical Subarea 48.3 shall conduct fishing operations in accordance with an experimental harvest regime as outlined below:

1. Vessels shall conduct the experimental harvest regime in the 2007/08 season at the start of their first season of participation in the crab fishery and the following conditions shall apply:

(i) Every vessel when undertaking an experimental harvesting regime shall expend its first 200,000 pot hours of effort within a total area delineated by 12 blocks of 0.5° latitude by 1.0° longitude. For the purposes of this conservation measure, these blocks shall be numbered A to L. In Annex 52-02/A, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30,000 pot hours in any single block of 0.5° latitude by 1.0° longitude;

(iv) If a vessel returns to port before it has expended 200,000 pot hours in the experimental harvesting regime, the remaining pot hours shall be expended before it can be considered that the vessel has completed the experimental harvesting regime;

(v) After completing 200,000 pot hours of experimental fishing, it shall be considered that vessels have completed the experimental harvesting regime and they shall be permitted to commence fishing in a normal fashion.

2. Data collected during the experimental harvest regime up to 30 June 2008 shall be submitted to CCAMLR by 31 August 2008.

3. Normal fishing operations shall be conducted in accordance with the regulations set out in Conservation Measure 52-01.

4. For the purposes of implementing normal fishing operations after completion of the experimental harvest regime, the Ten-day Catch and Effort Reporting System set out in Conservation Measure 23-02 shall apply.

5. Vessels that complete the experimental harvest regime shall not be required to conduct experimental fishing in future seasons. However, these vessels shall abide by the guidelines set forth in Conservation Measure 52-01.

6. Fishing vessels shall participate in the experimental harvest regime independently (i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

BILLING CODE 3510-22-P

BILLING CODE 3510-22-C

Conservation Measure 61-01 (2007)

Limits on the Exploratory Fishery for Martialia Hyadesi in Statistical Subarea 48.3 in the 2007/08 Season

(Species: Squid; Area: 48.3; Season: 2007/08; Gear: Jig)

The Commission hereby adopts the following conservation measure in accordance with Conservation Measures 21-02 and 31-01:

Access | 1. Fishing for Martialia hyadesi in Statistical Subarea 48.3 shall be limited to the exploratory jig fishery by notifying countries. The fishery shall be conducted by vessels using jigs only.
Catch limit | 2. The total catch of Martialia hyadesi in Statistical Subarea 48.3 in the 2007/08 season shall not exceed a precautionary catch limit of 2 500 tonnes.
Season | 3. For the purpose of the exploratory jig fishery for Martialia hyadesi in Statistical Subarea 48.3, the 2007/08 season is defined as the period from 1 December 2007 to 30 November 2008, or until the catch limit is reached, whichever is sooner.
Observers | 4. Each vessel participating in this fishery shall have at least one scientific observer appointed in accordance with the CCAMLR Scheme of International Scientific Observation, and where possible one additional scientific observer, on board throughout all fishing activities within the fishing period.
Data: Catch/effort | 5. For the purpose of implementing this conservation measure in the 2007/08 season, the following shall apply:
| (i) The Ten-day Catch and Effort Reporting System set out in Conservation Measure 23-02;
| (ii) The Monthly Fine-scale Catch and Effort Reporting System set out in Conservation Measure 23-04. Fine-scale data shall be submitted on a haul-by-haul basis.
| 6. For the purpose of Conservation Measures 23-02 and 23-04, the target species is Martialia hyadesi and by-catch species are defined as any species other than Martialia hyadesi.
Data: Biological | 7. Fine-scale biological data, as required under Conservation Measure 23-05, shall be collected and recorded. Such data shall be reported in accordance with the CCAMLR Scheme of International Scientific Observation.
Research | 8. Each vessel participating in this exploratory fishery shall collect data in accordance with the Data Collection Plan described in Annex 61-01/A. Data collected pursuant to the plan for the period up to 31 August 2008 shall be reported to CCAMLR by 30 September 2008.
Environmental protection | 9. Conservation Measure 26-01 applies.

Annex 61-01/A

Data Collection Plan for Exploratory Squid (Martialia Hyadesi) Fisheries in Statistical Subarea 48.3

1. All vessels will comply with conditions set by CCAMLR. These include data required to complete the data form (Form TAC) for the Ten-day Catch and Effort Reporting System, as specified by Conservation Measure 23-02; and data required to complete the CCAMLR standard fine-scale catch and effort data form for a squid jig fishery (Form C3). This includes numbers of seabirds and marine mammals of each species caught and released or killed.

2. All data required by the CCAMLR Scientific Observers Manual for squid fisheries will be collected. These include:

(i) Vessel and observer program details (Form S1);

(ii) Catch information (Form S2);

(iii) Biological data (Form S3).

Resolution 26/XXVI

International Polar Year/Census of Antarctic Marine Life

The Commission,

Recognising that the International Polar Year is a large scientific program focused on the Arctic and Antarctic from March 2007 to March 2009,

Acknowledging that the International Polar Year involves over 60 States and 200 scientific projects, including the Census of Antarctic Marine Life (CAML),

Noting that CAML will investigate the distribution and abundance of Antarctica's vast marine biodiversity to develop a benchmark for the benefit of humankind,

Recalling the Edinburgh Antarctic Declaration on the International Polar Year from the Antarctic Treaty Consultative Meeting XXIX that gives political support to the International Polar Year,

Further recognizing that the Commission, at its Twenty-fifth meeting, urged all Members to contribute to CCAMLR International Polar Year projects,

Noting Article IX of the Convention setting out the Commission's functions, including to ‘facilitate research into and comprehensive studies of Antarctic marine living resources and of the Antarctic marine ecosystem',

1. Welcomes the notifications received from Contracting Parties of proposed International Polar Year/Census of Antarctic Marine Life research activities to be undertaken in the CCAMLR Convention Area.

2. Expresses its appreciation to those Contracting Parties who have committed to participate in International Polar Year activities in the CCAMLR Convention Area and to further extend knowledge of the marine living resources in the Antarctic marine ecosystem.

3. Encourages all Contracting Parties to support and where possible contribute to the International Polar Year, including through the Census of Antarctic Marine Life.

Dated: December 10, 2007.
Alan Risenhoover,
Director, Office of Sustainable Fisheries, National Marine Fisheries Service.
Dated: December 11, 2007.
Margaret F. Hayes,
Director, Office of Ocean Affairs, Department of State.

[FR Doc. E7-24312 Filed 12-20-07; 8:45 am]

BILLING CODE 3510-22-P